DEPARTMENT OF TRANSPORTATION

Federal Aviation Administration

14 CFR Parts 21, 61, 63, 65, 91, 107, 125, and 141

[Docket No.: FAA-2020-0446; Amdt. No(s). Amendment numbers 21-104, 61-147, 63-45, 65-62, 91-360, 107-5, 125-71, and 141-23]

RIN 2120-AL66

Second Limited Extension of Relief for Certain Persons and Operations During the Coronavirus Disease 2019 (COVID-19) Public Health Emergency

AGENCY: Federal Aviation Administration (FAA), Department of Transportation (DOT).

ACTION: Final rule.

SUMMARY: This final rule further amends the regulatory relief originally provided in the Relief for Certain Persons and Operations during the Coronavirus Disease 2019 (COVID-19) final rule and the Limited Extension of Relief for Certain Persons and Operations during the Coronavirus Disease 2019 (COVID-19) Public Health Emergency final rule. The relief in this final rule applies to a new population of airmen and does not extend the relief provided in the amended Special Federal Aviation Regulation (SFAR). The amended relief applies to new persons who may have challenges complying with certain training, recent experience, testing, and checking requirements. This relief allows operators to continue to use pilots and other crewmembers in support of essential operations during this extended period. This SFAR also provides regulatory relief to additional persons unable to meet duration and renewal requirements due to the public health emergency. Finally, this rule allows certain air carriers and operators to fly temporary overflow aircraft to a point of storage pursuant to a special flight permit with a continuing authorization.

DATES: Effective October 1, 2020, through April 30, 2021.

ADDRESSES: For information on where to obtain copies of rulemaking documents and other information related to this final rule, see “How to Obtain Additional Information” in the SUPPLEMENTARY INFORMATION section of this document.

FOR FURTHER INFORMATION CONTACT: For technical questions concerning this action for pilots, contact Craig Holmes, General Aviation and Commercial Division; Federal Aviation Administration, 800 Independence Avenue SW, Washington, DC 20591; telephone (202) 267-1100; email 9-AVS-AFS800-COVID19-Correspondence@faa.gov. For technical questions concerning this action for mechanics and special flight permits, contact Kevin Morgan, Aircraft Maintenance Division; Federal Aviation Administration, 800 Independence Avenue SW, Washington, DC 20591; telephone (202) 267-1675; email Kevin.Morgan@faa.gov. For technical questions concerning this action for aircraft dispatchers and flight engineers, contact Theodora Kessaris and Sheri Pippin, Air Transportation Division, Federal Aviation Administration, 800 Independence Avenue SW, Washington, DC 20591; telephone (202) 267-8166; email 9-AVS-AFS200-COVID-Exemptions@faa.gov.

SUPPLEMENTARY INFORMATION:

Good Cause for Immediate Adoption

Section 553(b)(3)(B) of the Administrative Procedure Act (APA) (5 U.S.C.) authorizes agencies to dispense with notice and comment procedures for rules when the agency for “good cause” finds that those procedures are “impracticable, unnecessary, or contrary to the public interest.” In addition, section 553(d) of the APA requires that agencies publish a rule not less than 30 days before its effective date, except a substantive rule that relieves a restriction or “as otherwise provided by the agency for good cause found and published with the rule.” 5 U.S.C. 553(d)(1) and (3).

The FAA finds good cause under 5 U.S.C. 553(b)(3)(B) to waive prior notice and the opportunity for public comment. The provisions in this final rule provide temporary relief to persons who have been unable to meet certain requirements during the national emergency concerning COVID-19. Without this final rule, certain individuals will not be able to continue exercising privileges in support of essential operations due to their inability to satisfy certain training, recent experience, testing, and checking requirements. In addition, other individuals may be unable to satisfy certain requirements due to a reduced availability of personnel that are able to conduct routine aviation activities. In other instances, such activities may be contrary to State and local directives that continue certain restrictions as they implement phased recovery plans.

The FAA recognizes that there are aviation operations outside of air carrier and commercial operations conducted under part 119 of title 14 of the Code of Federal Regulations (14 CFR) that are critical, including operations that support essential services and flights that support the COVID-19 public health emergency response efforts. These operations are likely to face disruption due to a decreased supply of qualified pilots resulting from the effects of the COVID-19 public health emergency including the reduced number of personnel available to administer required training, checking, and testing. Without the relief in this SFAR, beginning October 1, 2020, and with each month thereafter, a new group of pilots will become unavailable to perform critical operations due to an inability to comply with regulatory requirements. This SFAR will provide temporary relief to certain individuals whose qualifications would otherwise lapse to ensure there are a sufficient number of qualified personnel available to conduct essential aviation activities during this period. The FAA finds that this temporary action is needed to enable individuals to continue to exercise their airman certificate privileges as the impacts of the COVID-19 public health emergency continue.

This action is also needed to provide immediate notification to individuals facing impending expiration dates for certificates, endorsements, and test results.¹ With the cessation of many non-essential aviation training and testing activities during the first several months of the public health emergency, many individuals were unable to complete certain activities before encountering expiration dates.

¹ Certain FAA regulations require a person to act within a particular timeframe in order to avoid an expiration. For example, a knowledge test result is generally valid for 24 months. A person must take the practical test before the knowledge test result expires or he or she must retake the knowledge test at additional cost.

Despite the gradual resumption of training, checking, and testing activities, the demand for completing these activities remains high because the industry has not yet been able to catch up from the backlog created during the initial closures and shutdowns. Affording flexibility in this final rule to the next group of affected individuals is necessary to manage the demand and account for a reduced number of personnel available to complete the activities. This final rule provides immediate relief from certain duration and renewal requirements to reduce unnecessary risk of exposure and to assure persons that they will not endure economic burdens due to non-compliance with certain regulations.

Accordingly, the FAA finds that providing notice and an opportunity to comment is contrary to the public interest, because any delay in implementation of this final rule could result in disruption to critical aviation operations and could increase the incidence of exposure during this public health emergency and into the period of recovery. Furthermore, the continually evolving public health situation as a result of, and State and local responses to, the COVID-19 public health emergency significantly limits how far in advance the FAA can usefully assess the need for the flexibilities provided for in this regulation.

In addition, for the same reasons stated above, the FAA finds good cause to waive the 30-day delay in effective date of this final rule under 5 U.S.C. 553(d)(3) for the SFAR provisions that address the training and qualification requirements. Because the APA also allows a substantive rule that relieves a restriction to become effective in less than 30 days after publication, the FAA finds that the SFAR provisions that provide relief by extending duration and renewal requirements may also be immediately effective. 5 U.S.C. 553(d)(1).

Authority for This Rulemaking

The FAA's authority to issue rules on aviation safety is found in Title 49 of the United States Code (49 U.S.C.). Subtitle I, Section 106 describes the authority of the FAA Administrator. Subtitle VII, Aviation Programs, describes in more detail the scope of the agency's authority.

This rulemaking is promulgated under the authority described in 49 U.S.C. 106(f), which establishes the authority of the Administrator to promulgate regulations and rules; 49 U.S.C. 44701(a)(5), which requires the Administrator to promulgate regulations and minimum standards for other practices, methods, and procedures necessary for safety in air commerce and national security; and 49 U.S.C. 44703(a), which requires the Administrator to prescribe regulations for the issuance of airman certificates when the Administrator finds, after investigation, that an individual is qualified for, and physically able to perform the duties related to, the position authorized by the certificate. This rulemaking provides airmen relief from certain training, recency, testing, and checking requirements, and establishes qualification requirements for airmen seeking to conduct essential operations during the COVID-19 public health emergency. For these reasons, this rulemaking is within the scope of the FAA's authority.

List of Abbreviations and Acronyms Frequently Used in This Document

AME—Aviation Medical Examiner

ATP—Airline Transport Pilot

COVID-19—Coronavirus Disease 2019

IFR—Instrument Flight Rules

PIC—Pilot in Command

SIC—Second in Command

UAS—Unmanned Aircraft Systems

Table of Contents

I. Overview of Final Rule

II. Background

III. Discussion of Final Rule

A. Relief From Certain Training, Recency, Testing and Checking Requirements

1. Part 61

a. Second-in-Command Qualifications (§ 61.55)

b. Flight Review (§ 61.56)

c. Pilot-in-Command Proficiency Check: Operation of an Aircraft That Requires More Than One Pilot Flight Crewmember or Is Turbojet-Powered (§ 61.58)

2. Part 91, Subpart K Flight Crewmember Requirements (§§ 91.1065, 91.1067, 91.1069, 91.1071, 91.1073, 91.1089, 91.1091, 91.1093, 91.1095, 91.1099, 91.1107)

3. Mitsubishi MU-2B Series Special Training, Experience, and Operating Requirements (Part 91, §§ 91.1703, 91.1705, 91.1715)

4. Part 125 Flight Crewmember Requirements (§§ 125.285, 125.287, 125.289, 125.291, 125.293)

5. Robinson R-22/R-44 Special Training and Experience Requirements (SFAR 73)

B. Relief From Certain Duration and Renewal Requirements

1. Part 61

a. Pilot Medical Certificates: Requirement and Duration (§ 61.23)

b. Pilot Prerequisites for Practical Tests (§ 61.39)

2. Part 63

a. Flight Engineer Medical Certificates (§ 63.3)

b. Flight Engineer Knowledge Requirements (§ 63.35)

3. Part 65

a. Aircraft Dispatcher Knowledge Requirements (§ 65.55)

b. Mechanic Certificate Eligibility Requirements (§ 65.71)

C. Other Relief for Special Flight Permits (§ 21.197)

IV. Regulatory Notices and Analyses

V. Executive Order Determinations

VI. How To Obtain Additional Information

I. Overview of Final Rule

The FAA's regulations contain several training, recent experience, testing, and checking requirements that persons must comply with prior to exercising their airman or crewmember privileges. The FAA's regulations also contain duration requirements, such as those pertaining to medical certificates, the validity of knowledge tests, and general procedures for completing a practical test. Persons continue to have difficulty complying with several of the FAA's requirements because of the ongoing effects of the COVID-19 public health emergency, including the continuation of social distancing guidelines to prevent transmission of the virus. For example, the FAA finds that there are increases in flight operations and improvements in the availability of facilities and personnel to provide training, testing, and checking; yet, reduced class sizes and disinfection protocols at facilities continue to present challenges in scheduling and completing required events. The FAA also finds that the availability of designees to complete practical tests and aviation medical exams has improved, but there are still challenges in some locations with an increase in the number of people competing to schedule events necessary to comply with regulatory requirements.

As a result, “lapses” in qualifications, which occur on the last day of each month, will affect an additional cohort of regulated parties at the end of each month even as State and local directives for phased recovery and routine activities resume. The regulatory relief provided in this final rule will amend the Limited Extension of Relief for Certain Persons and Operations during the Coronavirus Disease 2019 (COVID-19) Public Health Emergency final rule (SFAR 118-1) (85 FR 38763) issued by the FAA on June 25, 2020. This amendment will enable the continuity of aviation operations that are critical during the COVID-19 public health emergency and the recovery, including operations that support essential services and flights that support response efforts. In addition, the SFAR contains regulatory relief for persons who are unable to satisfy certain requirements to prevent those persons from enduring unnecessary economic burdens due to circumstances related to the public health emergency that are outside of their control. Finally, this amendment will extend relief to air carriers and operators allowing them to fly temporary overflow aircraft to a point of storage with a continuing authorization.

The FAA notes that no extension of relief has been granted to airmen who were eligible for relief in SFAR 118-1. The FAA also notes that, in this final rule, it is not expanding every area of relief provided in SFAR 118-1. Because the industry is seeing improvements in the availability of facilities for training, testing, and examinations and the number of persons available to conduct those activities is increasing, the extent of the relief in this final rule is reduced in many areas. The FAA expects that, with continued improvement over the next several months, no further relief will be necessary. Although this amended SFAR will remain effective through April 30, 2021, that date does not reflect the duration for every provision. As a result, airman, operators, and air agencies should review the eligibility, conditions, and duration of the SFAR carefully to ensure compliance.

The table below summarizes SFAR 118 and the amendments to it.

14 CFR | Area of relief | Original SFAR 118 relief | Amended SFAR 118-1 relief | Amended SFAR 118-2 relief
61.55 | Second-in-Command Pilot Qualifications | Due March-June 2020 has 3 grace months to complete training | Added pilots due July-Sept 2020 | Added pilots due Oct 2020-Jan 2021, but only 2 total grace months to complete training.
61.56 | Pilot Flight Review | Due March-June 2020 has 3 grace months to complete a flight review | Added pilots due July-Sept 2020 | Added pilots due Oct 2020-Jan 2021, but only 2 total grace months to complete a flight review.
61.57 | Pilot Instrument Currency | 9-month currency look-back period (instead of 6 months) for flights April 30-June 30, 2020 | Added look-back period for flights in July-Sept 2020 | No further relief.
61.58 | Pilot-in-Command Proficiency Check | Due March-June 2020 has 3 grace months to complete the check | Added pilots due in July-Sept 2020 | Added pilots due Oct 2020-Jan 2021, but only 2 total grace months to complete the check.
Part 91, Subpart K | Crewmember Requirements | Due March-June 2020 has 3 grace months to complete training, recency, and checking | Added crewmembers due in July-Sept 2020 | Added crewmembers due Oct 2020-Jan 2021, but only 2 total grace months to complete training, recency, and checking.
Part 91, Subpart N | Mitsubishi MU-2B Series Special Training, Experience, and Operating Requirements | Due March-June 2020 has 3 grace months to complete the training and flight review | Added pilots due in July-Sept 2020 | Added pilots due Oct 2020-Jan 2021, but only 2 total grace months to complete the training and flight review.
107.65 | Remote Pilot Aeronautical Knowledge Recency | Due March-June 2020; privileges are renewed for 6 months following completion of online training | Added remote pilots whose privileges are due to expire July-Sept 2020 | No further relief.
Part 125 | Flight Crewmember Requirements | Due March-June 2020 has 3 grace months to complete training, recency, and checking ² | Added crewmembers due in July-Sept 2020 | Added crewmembers due Oct 2020-Jan 2021, but only 2 total grace months to complete training, recency, and checking.³
SFAR 73 | Robinson R-22/R-44 Special Training and Experience Requirements | Due March-June 2020 has 3 grace months to complete a flight review | Added pilots due in July-Sept 2020 | Added pilots due Oct 2020-Jan 2021, but only 2 total grace months to complete a flight review.
61.23 (All Pilots) | Pilot Medical Certificate Duration | Validity of March-May 2020 medicals extended to June 30, 2020 | Extend medical validity period by 3 calendar months from expiration for pilots whose medicals expire March-Sept 2020 | Extend medical validity period by 2 calendar months from expiration for pilots whose medicals expire Oct 2020-Jan 2021.
61.23 (Alaska Pilots) | Pilot Medical Certificate Duration - | Nothing Alaska-specific—covered under 61.23 (All Pilots) | Nothing Alaska-specific—covered under 61.23 (All Pilots) | Extend medical validity period by 3 calendar months from expiration for pilots that reside in or serve as a pilot of an aircraft in Alaska whose medicals expire Oct 2020-Jan 2021.
61.39 | Pilot Knowledge Test Validity Period | Test results expiring March-June 2020 extended 3 calendar months | Knowledge tests expiring in July-Sept 2020 added | Knowledge tests expiring Oct 2020-Jan 2021 extended 2 calendar months.
61.197 | Flight Instructor Renewal | Certificate expiration March-May 2020 have until June 30, 2020 to renew | No further relief | No further relief.
SFAR 100-2 | Relief for U.S. Military and Civilian Personnel Who are Assigned Outside the U.S. in Support of U.S. Armed Forces Operations | Eligible persons that returned from overseas October 2019-March 2020 received an extension of 3 calendar months | No further relief | No further relief.
63.3 (All Flight Engineers) | Flight Engineer Medical Certificate Duration | Validity of March-May 2020 medicals extended to June 30, 2020 | Extend medical validity period by 3 calendar months from expiration flight engineers whose medicals expire March-Sept 2020 | Extend medical validity period by 2 calendar months from expiration for flight engineers whose medicals expire Oct 2020-Jan 2021.
63.3 (Alaska Flight Engineers) | Flight Engineer Medical Certificate Duration | Nothing Alaska-specific—covered under 63.3 (All Flight Engineers) | Nothing Alaska-specific—covered under 63.3 (All Flight Engineers) | Extend medical validity period by 3 calendar months from expiration for flight engineers who reside in or serve as a flight engineer of an aircraft in Alaska whose medicals expire Oct 2020-Jan 2021.
63.35 | Flight Engineer Written Test Validity Period | Test results expiring March-June 2020 extended 3 calendar months | Written tests expiring in July-Sept 2020 added | Written tests expiring in Oct 2020-Jan 2021 extended 2 calendar months.
65.55 | Dispatcher Knowledge Test Validity Period | Test results expiring March-June 2020 extended 3 calendar months | Knowledge tests expiring in July-Sept 2020 added | Knowledge tests expiring in Oct 2020-Jan 2021 extended 2 calendar months.
65.71 | Mechanic Applicant Testing Period | Testing period expiring March-June 2020 extended 3 months | Testing period expiring in July-Sept 2020 added | Testing period expiring in Oct 2020-Jan 2021 extended 2 calendar months.
65.93 | Mechanic with Inspection Authorization Renewal | 3 additional months (April-June 2020) to meet year one renewal requirements | No further relief | No further relief.
65.117 | Military Riggers | Eligible military parachute riggers who were released March-June 2019 have 3 additional months to make application | No further relief | No further relief.
141.5 | Pilot School Certificate Requirements | Provisional certificate expires April-June 2020 extended to Dec 31, 2020 to apply for a pilot school certificate | No further relief | No further relief.
141.27 | Pilot School Certificate Renewal Requirements | Certificate expires April-June 2020 extended to Dec 31, 2020 to renew | No further relief | No further relief.
21.197 | Special Flight Permit—Move Aircraft to Storage | April 30-Dec 31, 2020 | No change | Extend relief period to March 31, 2021.

II. Background

² An additional 60 days to meet the landing currency is also provided.

³ An additional 30 days to meet the landing currency is also provided.

In March 2020, the FAA received several letters from industry associations petitioning the FAA for relief and extensions from certain requirements during the COVID-19 public health emergency.⁴ The content of the letters and the relief and flexibility sought were described in the Relief for Certain Persons and Operations during the Coronavirus Disease 2019 (COVID-19) final rule (SFAR 118) (85 FR 26326). On May 29, 2020, the FAA received an additional letter signed by seven industry associations seeking to extend by a month the relief granted to those individuals eligible for relief in SFAR 118.⁵ The letter also requested the FAA expand the eligibility of the relief to additional groups of pilots, operators, and certificate holders who face expiring experience, testing, checking, duration, medical, and renewal requirements in July through September 2020. The content of this letter and the rationale behind the need for additional relief was described in the Limited Extension of Relief for Certain Persons and Operations during the Coronavirus Disease 2019 (COVID-19) Public Health Emergency final rule (SFAR 118-1) (85 FR 38763). This final rule also detailed the petition for exemption submitted by Airlines for America (A4A) to provide medical relief for pilots and flight engineers.

⁴ These letters are available in the rulemaking docket.

⁵ The letter was from the Aircraft Owners and Pilots Association (AOPA), Air Medical Operators Association (AMOA), Experimental Aircraft Association (EAA), Helicopter Association International (HAI), National Agricultural Aviation Association (NAAA), National Air Transportation Association (NATA), and National Business Aviation Association (NBAA).

On September 3, 2020, the FAA received a letter signed by the same seven industry associations as the previous May 2020 letter, seeking to expand the eligibility of the relief to additional groups of pilots, operators, and certificate holders who face expiring experience, testing, checking, duration, medical, and renewal requirements in October through December 2020.⁶ As in the prior letter, the industry associations supported their position by acknowledging that while restrictions are easing in some areas, they continue to see burdens and restrictions that will continue to have a negative impact on the aviation community into the foreseeable future. The letter cited guidance from the Centers for Disease Control and Prevention (CDC), which continues to recommend limited contact with persons outside of one's household, and added that State and local governments are enforcing social distancing requirements. As a result, many aviation stakeholders seek to minimize their risk of exposure.⁷

⁶ AOPA, AMOA, EAA, HAI, NAAA, NATA, and NBAA.

⁷ The industry associations referenced FAA data, which indicates that “more than 57% of [designated pilot examiners] are over the age of 60, a demographic at higher risk of severe effects” from COVID-19 disease.

Although the letter acknowledged that most aviation medical examiners (AMEs) are now scheduling appointments, it noted that additional flexibility would continue to be a benefit because there are still backlogs. The letter further stated that pilots who hold special issuance medical certificates or are required to supply the FAA with information regarding a medical condition may have difficulty obtaining the information in time due to the limited availability of treating specialists (e.g., cardiologists, pulmonologists). They also added that the additional flexibility will allow airmen and examiners to abide by CDC and individual State recommendations while stimulating the economy and moving medical and emergency supplies when needed. The industry associations assert that the safety mitigations in SFAR 118-1 will continue to ensure an equivalent level of safety during the extensions.⁸

⁸ In the letter, the industry associations requested the FAA reinstate relief for flight instructor certificate renewals that was provided in the original SFAR, but was not included in the first extension. The FAA has determined that the circumstances for granting relief no longer exist. There are online renewal options available; and, for those instructors that renew based on activity, the FAA has options available that do not require an in-person visit to an FAA office to complete the renewal application process. Industry also requested relief for night landing currency requirements when carrying passengers in § 61.57(e)(4). The FAA has determined that further relief to an exception that is already written into the rule for night landing currency is not appropriate; therefore, the FAA did not include relief in this final rule. The exception already permits a pilot of a turbine-powered airplane that requires more than one pilot a couple of alternatives for meeting night landing currency requirements. The additional time allowed under the exception is partially based upon recency of flight experience in the 90 days prior to flight. Any further relief from the minimum threshold of 15 hours of flight time in the past 90 days to trigger the exception in § 61.57(e)(4) would not provide for an equivalent level of safety.

In addition, on May 19, 2020, the President issued Executive Order 13924, Regulatory Relief to Support Economic Recovery, setting forth “the policy of the United States to combat the economic consequences of COVID-19 with the same vigor and resourcefulness with which the fight against COVID-19 itself has been waged.” Among other things, the Executive order directed executive branch agencies to “address this economic emergency by rescinding, modifying, waiving, or providing exemptions from regulations and other requirements that may inhibit economic recovery consistent with applicable law and with protection of the public health and safety. . . .” This final rule is consistent with this Executive order.

III. Discussion of Final Rule

Without the expanded relief provided in this SFAR, certain persons are at risk of ceasing operations due to their inability to satisfy training and qualification requirements due to disruptions caused by the COVID-19 public health emergency. Aviation activity continues to increase, and industry is beginning to address the backlog of required events. However, many of the challenges that existed when the FAA first issued SFAR 118 remain today.

Airmen continue to have trouble complying with certain training, recency, checking, testing, duration, and renewal requirements. The Nation continues to transition to various phases of reopening throughout the country and authorities continue to promote social distancing and limiting exposure to slow the spread of the virus. To comply with many of the FAA's training, recency, checking, testing, duration, and renewal requirements, an airman is required to be in close proximity to another individual, often in a small, confined space such as the flight deck of an aircraft or inside a simulator. In such an environment, there is an increased risk of transmission of the virus.

As eligible airmen exercise the relief in SFAR 118-1 and reschedule training and qualification activities, there continues to be a strain on the training ecosystem for those airmen who are due for events in the upcoming months. In addition, the FAA workforce and its designees have not fully returned to normal activity. As a result, airman qualifications could lapse because persons cannot access training or testing facilities or schedule events in a timely fashion or because FAA inspectors or designees are unavailable to conduct required tests, checks, or observations. To enable the continuity of aviation operations that are critical to the Nation, the FAA finds it necessary to provide short-term relief from certain training, qualification, duration, and renewal requirements to a new cohort of airmen.

Because this SFAR addresses multiple regulations from several parts of the Federal Aviation Regulations, the FAA has provided the necessary background information in the relevant sections of the Discussion of the Final Rule. The FAA emphasizes that, apart from the limited relief granted in this SFAR, individuals must continue to comply with all applicable FAA regulations.⁹

⁹ The FAA notes, in particular, that § 61.51(a) requires an individual to log training and aeronautical experience used to meet the requirements for a certificate, rating, or flight review and aeronautical experience required for meeting the recent flight experience requirements of part 61. Likewise, § 61.51(i) requires a person to present their pilot certificate, medical certificate, logbook, or any other record required by part 61 for inspection upon a reasonable request by (i) the Administrator; (ii) an authorized representative from the National Transportation Safety Board; or (iii) any Federal, State, or local law enforcement officer.

Each of the following sections explains the relief being granted and the persons, airmen, or certificate holders eligible for the relief.¹⁰ For those provisions that are being extended in this final rule, the mitigations the FAA found necessary to ensure aviation safety remain unchanged from SFAR 118; therefore, they are not fully explained in the preamble of this amendment.¹¹

¹⁰ As explained further in Section IV.F of this SFAR (International Compatibility), certain relief provided in this SFAR does not conform with the International Civil Aviation Organization (ICAO) Standards and Recommended Practices (SARPs). Apart from this SFAR's application within the United States, certificate holders or operators may dispatch or release flights and pilots and other crewmembers may operate outside of the United States under this SFAR, unless otherwise prohibited by a foreign country. For international operations where pilots and other crewmembers will exercise the relief identified in this SFAR, anyone exercising this relief must have access to the SFAR when outside the United States and present a copy of this SFAR for inspection upon request by a foreign civil aviation authority.

¹¹ The FAA's mitigation discussion can be found in the Relief for Certain Persons and Operations during the Coronavirus Disease 2019 (COVID-19) final rule (SFAR 118) (85 FR 26326).

While the FAA is expanding the relief in SFAR 118-1 to a new group of airmen, it has not extended the period of relief provided to the group of airmen due in the months March through September 2020. The FAA maintains that limited extensions, not to exceed 3 calendar months (grace months), for training, checking, and currency requirements are acceptable in these extraordinary circumstances. Further extending the scope of the relief provided to the airmen covered by SFAR 118-1, however, presents an added risk to the system that the FAA does not broadly support. The grace months provided by the SFAR were to offer flexibility in scheduling the necessary events given the disruption caused by the COVID-19 public health emergency. The FAA further notes that, with aviation activity continuing to increase and the increased availability of personnel to complete training and checking activities, the FAA might not extend relief to additional groups of persons, airmen, and operators after this final rule provided this improvement continues. All certificate holders who are facing lapses in qualifications should seek to schedule the necessary events as soon as it is practical and safe to do so given individual circumstances.

A. Relief From Certain Training, Recency, Testing, and Checking Requirements

As noted in the letters from industry, general aviation operators and crewmembers can be a key part of the U.S. infrastructure. The support that general aviation provides is particularly critical as the Nation continues to recover from the public health emergency. Because some phased recovery measures continue to recommend that people limit exposure through social distancing, and with the enhanced cleaning requirements for aircraft and facilities and facility capacity restrictions in some locations, some airmen will continue to have difficulty completing certain regulatory requirements in the short-term because the capacity for completing these events may be reduced. As aviation activity resumes, the capacity for training, testing, and checking is still not at pre-COVID-19 levels and the demand for these events exceeds the availability of qualified instructors, check airmen, and examiners in some locations. Therefore, the FAA finds temporary relief from some requirements is still necessary to maintain critical operations, increase flexibility in scheduling, and reduce burdens on airmen; however, the FAA is reducing the amount of additional time and flexibility in many of the relief areas as the industry is improving in its ability to absorb the demand. This reduction in additional time will also help facilitate the transition back to the regulatory training and checking intervals without further relief. To ensure compliance by the end of the grace periods, the FAA encourages airmen not to delay scheduling until the last possible moment.

Relief granted in this section to certain eligible pilots and crewmembers applies only to persons conducting specific operations for which the FAA has determined relief is appropriate. The overarching eligibility for relief in Section A remains unchanged from the original issuance of SFAR 118 and the first amendment; however, it is reiterated here for clarity. No individuals who obtained relief under SFAR 118-1 will receive an extension of that relief. Specific changes in the relief granted for individual sections will be discussed in those sections.

The relief applies to any operation that requires the pilot to hold at least a commercial pilot certificate. This provision will support the continuity of essential commercial operations, which include aerial observation of critical infrastructure, aerial applications (e.g., crops), and private carriage of medical supplies and equipment, which are conducted under part 91, subpart K, and parts 125, 133, and 137.¹²

¹² In accordance with § 137.19, a private operator pilot that holds a private pilot certificate is also eligible for relief.

In addition, this relief applies to some operations conducted by pilots exercising private pilot privileges, provided the pilot has at least 500 hours of total time as a pilot of which 400 hours is as PIC and 50 of the PIC hours were accrued in the last 12 calendar months. The kinds of operations permitted are those that are:

• Incidental to business or employment,

• In support of family medical needs or to transport essential goods for personal use,

• Necessary to fly an aircraft to a location in order to meet a requirement of this chapter, or

• A flight to transport essential goods and/or medical supplies to support public health needs.

This SFAR also extends to pilots conducting charitable medical flights for a volunteer pilot organization pursuant to an exemption issued under part 11, provided the pilots continue to comply with the conditions and limitations of the exemption. For flights conducted by private pilots under this relief, no one may be carried on the aircraft unless that person is essential to the purpose of the flight, such as when transporting doctors for the purpose of providing medical care. This relief does not permit private pilots to conduct these operations for compensation or hire unless permitted under the exceptions in § 61.113(b), (d), (e), or (h) or by exemption.¹³

¹³ The FAA has consistently construed compensation under § 61.113(a) broadly. Compensation does not require a profit, profit motive, or the actual payment of funds. Rather, compensation is the receipt of anything of value, including the reimbursement of expenses. For additional discussion, the FAA has issued legal interpretations with respect to what constitutes compensation. Furthermore, nothing in this SFAR relieves a person from the requirement to hold a part 119 certificate if applicable FAA regulations require a part 119 certificate. See generally FAA Advisory Circular 120-12A (Apr. 24, 1986) and FAA Advisory Circular 61-142 (Feb. 25, 2020).

This relief also extends to flight attendant crewmembers, check pilots, and flight instructors under part 91, subpart K, and part 125. Finally, this relief applies to operations conducted under part 107 of this chapter by a person who holds a remote pilot certificate issued under part 107.¹⁴ Pilots exercising commercial pilot privileges have at least 190 hours of flight time as a pilot and have been tested to a higher standard than private pilots. The eligibility requirements for private pilots are consistent with additional conditions and limitations imposed on private pilots conducting charitable flights under a part 11 exemption.

¹⁴ No additional relief has been provided for remote pilots under part 107 in this final rule. However, some remote pilots who obtained relief under SFAR 118-1 remain eligible for relief.

This amendment to SFAR 118-1 addresses crewmember qualifications that may lapse in the next few months, provided the crewmember is eligible for the relief and satisfies the safety mitigations before exercising the privileges. The eligibility requirements and mitigations are discussed more fully in each subsection.

1. Part 61

Part 61 prescribes the requirements for pilot, flight instructor, and ground instructor certification, which include training, recency, testing, and checking requirements. The FAA is providing relief for second-in-command (SIC) qualifications, pilot flight reviews, and the PIC proficiency check for pilots that operate aircraft that require more than one pilot flight crewmember or are turbojet-powered.¹⁵ The specific relief is described in paragraphs A.1.a. through A.1.c.

¹⁵ This final rule does not extend the relief previously granted for specific recent flight experience requirements in § 61.57.

a. Second-in-Command Qualifications (§ 61.55)

Section 61.55(b) states that no person may serve as SIC of an aircraft certificated for more than one required pilot flight crewmember or in operations requiring an SIC unless that person has, within the previous 12 calendar months, become familiar with certain information specific to the type of aircraft and performed and logged pilot time in the type of aircraft or in a flight simulator that represents the type of aircraft.¹⁶ Although paragraph (c) provides SICs a grace month ¹⁷ for accomplishing this recency requirement, the effects of the COVID-19 public health emergency continue to create challenges for compliance even within that additional timeframe.

¹⁶ Section 61.55(b)(1)(i) specifies SICs must become familiar with operational procedures applicable to the powerplant, equipment, and systems; performance specifications and limitations; normal, abnormal, and emergency operating procedures; flight manual; and placards and markings. As prescribed in paragraph (b)(2), the SIC must also log pilot time and perform at least three takeoffs and three landings to a full stop as the sole manipulator of the flight controls; engine-out procedures and maneuvering with an engine out while executing the duties of pilot in command; and receive crew resource management training.

¹⁷ The “grace month” is the month after the month in which training is due during which the pilot is still eligible to maintain recency.

As a result, the FAA finds, under the extraordinary circumstances of the COVID-19 public health emergency, that allowing eligible SICs two additional grace months for completing the requirements of § 61.55(b) would not present additional risk to aviation safety that cannot be mitigated.¹⁸ The additional grace months under this extension of the SFAR are available to pilots whose base month falls in October 2020 through January 2021. The “base month” is the month in which training is due. This new cohort of pilots will have a total of two grace months after the base month to accomplish the requirements of § 61.55(b).¹⁹ If eligible pilots complete these requirements during the grace period, they will be considered to have completed them during the base month. To attain the two additional grace months, eligible pilots must complete the requirements prescribed in SFAR 118-2 prior to serving as an SIC.

¹⁸ 85 FR 26330.

¹⁹ The three grace months consist of the grace month provided in § 61.55(c) and the two additional grace months provided by this SFAR.

The FAA reiterates that no additional relief has been provided to pilots who obtained relief under the original SFAR and the first extension. The following table outlines the expiration of relief pertinent to § 61.55 for all groups of pilots covered under the terms of the SFAR.

Base month | § 61.55 SFAR Relief
March through May 2020 | Expired.
June 2020 | Expires September 30, 2020.
July 2020 | Expires October 31, 2020.
August 2020 | Expires November 30, 2020.
September 2020 | Expires December 31, 2020.
October 2020 | Expires December 31, 2020.
November 2020 | Expires January 31, 2021.
December 2020 | Expires February 28, 2021.
January 2021 | Expires March 31, 2021.

b. Flight Review (§ 61.56)

Section 61.56(c) states that no person may act as PIC of an aircraft, unless since the beginning of the 24th calendar month before the month in which that person acts as PIC, that person has accomplished a flight review in an aircraft for which that person is rated and the person's logbook has been endorsed for that review by an authorized instructor certifying the review was satisfactorily completed.²⁰

²⁰ Section 61.56(a) requires the flight review to consist of a minimum of 1 hour of flight training and 1 hour of ground training.

The FAA finds, under the extraordinary circumstances of the COVID-19 public health emergency, that extending the 24-calendar month requirement of § 61.56(c) is necessary. However, with increased aviation activity and growing availability of instructors, the FAA has determined that pilots whose flight review is due from October 2020 through January 2021 require at most two additional calendar months to complete their flight reviews instead of the three calendar months previously granted. This change acknowledges that some flexibility still is needed for scheduling these events, but the circumstances of the public health emergency no longer require an extension of three calendar months. The FAA also notes that the industry organizations requested a two-month extension for this next group of pilots whose flight reviews are coming due.

This extension will not adversely affect safety, provided the relief applies to active pilots and certain risk mitigations are met.²¹ The two-calendar month extension applies only to pilots who were current to act as PIC of an aircraft in March 2020, and whose flight review is due in October 2020 through January 2021. Eligible pilots must complete the requirements prescribed in SFAR 118-2 prior to serving as a PIC.

²¹ 85 FR 26330-1.

The FAA reiterates that no additional relief has been provided to pilots who obtained relief under the original SFAR and the first extension. The following table outlines the expiration of relief pertinent to § 61.56 for all groups of pilots covered under the terms of the SFAR.

Base month | § 61.56 SFAR Relief
March through May 2020 | Expired.
June 2020 | Expires September 30, 2020.
July 2020 | Expires October 31, 2020.
August 2020 | Expires November 30, 2020.
September 2020 | Expires December 31, 2020.
October 2020 | Expires December 31, 2020.
November 2020 | Expires January 31, 2021.
December 2020 | Expires February 28, 2021.
January 2021 | Expires March 31, 2021.

c. Pilot-in-Command Proficiency Check: Operation of an Aircraft That Requires More Than One Pilot Flight Crewmember or Is Turbojet-Powered (§ 61.58)

Section 61.58 requires a PIC proficiency check for those pilots that fly an aircraft that requires more than one pilot or is turbojet-powered. Paragraph (a)(1) requires a pilot to complete a PIC proficiency check within the preceding twelve calendar months in an aircraft that is type certificated for more than one required pilot or is turbojet-powered. In addition, paragraph (a)(2) requires a pilot to accomplish, within the preceding 24 calendar months, a PIC proficiency check in the particular type of aircraft in which that person will serve as PIC that is type-certificated for more than one required pilot flight crewmember or is turbojet-powered.²² Paragraph (i) establishes a grace month for completing the PIC proficiency check. Specifically, it allows the check to be completed in the month prior to or the month after the month in which the check is due.

²² In accordance with § 61.58(b), this section does not apply to persons conducting operations under subpart K of part 91, or part 121, 125, 133, 135, or 137. In accordance with § 61.57(c), the PIC proficiency check given in accordance with subpart K of part 91, parts 121, 125, or 135 may be used to satisfy the requirements of this section.

The FAA finds, under the extraordinary circumstances of the COVID-19 public health emergency, that allowing two additional grace months for completing the PIC proficiency checks required by § 61.58(a)(1) and (2) does not present a risk to aviation safety that cannot be mitigated, as explained in SFAR 118.²³ Eligible pilots under this extension are those pilots who are required to complete a proficiency check in accordance with § 61.58(a)(1) and whose base month falls within the time period of October 2020 through January 2021. In accordance with § 61.58(a)(2), pilots who have not completed a proficiency check in the aircraft they intend to fly within the preceding 24 calendar months and whose base month falls between October 2020 and January 2021 are also included in the relief in this SFAR. Pilots will have a total of two grace months after the base month to accomplish the PIC proficiency check required by § 61.58(a)(1) and (2).²⁴ A PIC proficiency check completed during the extended grace period will be considered to have been completed in the base month.

²³ 85 FR 26331-2.

²⁴ This two-month grace period includes the grace month that is already provided by § 61.58(i) and the one additional grace months provided by this SFAR.

The FAA reiterates that no additional relief has been provided to pilots who obtained relief under the original SFAR and the first extension. The following table outlines the expiration of relief pertinent to § 61.58 for all groups of pilots covered under the terms of the SFAR.

Base month | § 61.58 SFAR Relief
March through May 2020 | Expired.
June 2020 | Expires September 30, 2020.
July 2020 | Expires October 31, 2020.
August 2020 | Expires November 30, 2020.
September 2020 | Expires December 31, 2020.
October 2020 | Expires December 31, 2020.
November 2020 | Expires January 31, 2021.
December 2020 | Expires February 28, 2021.
January 2021 | Expires March 31, 2021.

2. Part 91, Subpart K Flight Crewmember Requirements (§§ 91.1065, 91.1067, 91.1069, 91.1071, 91.1073, 91.1089, 91.1091, 91.1093, 91.1095, 91.1099, 91.1107)

Part 91, subpart K, prescribes the additional rules that apply to private, general aviation fractional ownership programs. There are currently nine fractional ownership programs operating under part 91, subpart K. They range in size from managers with two aircraft to managers with over 500 airplanes and helicopters.

The crewmember testing and checking requirements are established in §§ 91.1065, 91.1067, 91.1069, and 91.1071. Recurrent training requirements for crewmembers are specified in §§ 91.1073, 91.1099, and 91.1107. These requirements cover the following activities and timelines for completion:

• Section 91.1065—pilot knowledge testing and competency checking requirements (completed within the previous twelve months before the pilot serves as a required crewmember);

• Section 91.1067—flight attendant crewmember testing requirements (completed within the previous twelve months before serving as a flight attendant crewmember);

• Section 91.1069(a) and (b)—instrument proficiency checking requirements for PICs (completed within the previous six months) and SICs (completed in previous twelve months);

• Section 91.1099—initial or recurrent training (completed within the previous twelve months before serving as a crewmember);

• Section 91.1107—crewmember recurrent training (completed within the previous twelve months before serving as a crewmember);

• Section 91.1069(c)—instrument approach procedure recency (demonstrated that type of approach within previous six months);

• Section 91.1071(a)—creates a grace month that allows a crewmember test or flight check required by subpart K to be completed in the month before or after the month it is required; and

• Section 91.1073(b)—creates a grace month that allows crewmember recurrent training required by subpart K to be completed in the month before or after the month it is required.

Subpart K of part 91 also contains instructor and check pilot qualifications in §§ 91.1089 through 91.1095. Sections 91.1089 and 91.1091 require check pilots and flight instructors qualified in simulators to fly at least two flight segments as a required crewmember for the type, class, or category of aircraft involved within the previous twelve-month period or complete an approved line-observation program within the period prescribed by that program. Paragraph (g) in both sections provides a grace month stating that the flight segments or line observations are considered complete if completed in the month before or the month after in which they are due. Sections 91.1093 and 91.1095 require that a person who conducts checking or instruction have satisfactorily completed an observation check within the preceding 24 months. Paragraph (b) in both sections also provides a grace month for the checks to be completed.

The FAA finds, under the extraordinary circumstances of the COVID-19 public health emergency, that extending the relief to a new group of individuals does not present a risk to aviation safety that cannot be mitigated under the conditions of SFAR 118.²⁵ As such, the final rule allows a total of two grace months after the base month for completing the covered training, testing, and checking requirements for crewmembers, check pilots, and flight instructors whose base month is in October 2020 through January 2021—many of which already permit one grace month. If a management specification holder seeks the relief provided in this amendment, the risk mitigation plan must include reference to crewmembers whose base month is October 2020 through January 2021, as appropriate. This may require an amendment to a previously submitted mitigation plan under the conditions of SFAR 118; however, persons whose base month was March through September 2020 receive no further relief under this portion of the final rule.

²⁵ 85 FR 26332-3.

The following table outlines the expiration of relief pertinent to part 91, subpart K for all crewmembers covered under the terms of the SFAR.

Base month | Part 91, Subpart K SFAR Relief
March through May 2020 | Expired.
June 2020 | Expires September 30, 2020.
July 2020 | Expires October 31, 2020.
August 2020 | Expires November 30, 2020.
September 2020 | Expires December 31, 2020.
October 2020 | Expires December 31, 2020.
November 2020 | Expires January 31, 2021.
December 2020 | Expires February 28, 2021.
January 2021 | Expires March 31, 2021.

3. Mitsubishi MU-2B Series Special Training, Experience, and Operating Requirements (§§ 91.1703, 91.1705, 91.1715)

Subpart N of part 91 contains training, experience, and operating requirements specific to the Mitsubishi MU-2B series airplane. Except as specified in § 91.1703(b),²⁶ a person may not manipulate the controls, act as PIC, or act as SIC of a MU-2B series airplane for the purpose of flight unless that person satisfies certain ground and flight training requirements,²⁷ including recurrent training requirements, in an FAA-approved MU-2B training program that meets the standards of subpart N of part 91. This requirement is contained in § 91.1705(a)(1).²⁸

²⁶ Section 91.1703(b) states that a person who does not meet the requirements of subpart N of part 91 may manipulate the controls of a Mitsubishi MU-2B series airplane if a PIC who meets the requirements of subpart N of part 91 is occupying a pilot station, no passengers or cargo are carried on board the airplane, and the flight is being conducted for one of the reasons specified in § 91.1703(b)(1) through (3).

²⁷ The requirements for ground and flight training are on initial/transition, requalification, recurrent, and differences training. 14 CFR 91.1705(a)(1).

²⁸ Section 91.1705(a)(2) requires the person's logbook to have been endorsed in accordance with § 91.1705(f).

In addition, § 91.1705(b)(1) states that, except as specified in § 91.1703(b), a person may not manipulate the controls, act as PIC, or act as SIC, of a MU-2B series airplane for the purpose of flight unless that person satisfactorily completes, if applicable, recurrent pilot training on the special emphasis items and all items listed in the Training Course Final Phase Check in accordance with an FAA-approved MU-2B training program that meets the standards of subpart N of part 91.²⁹

²⁹ Section 91.1705(b)(2) also requires the person's logbook to have been endorsed in accordance with § 91.1705(f).

Section 91.1703(e) requires a person to complete recurrent training within the preceding twelve months without the option of a grace month.³⁰ Under § 91.1705(e), however, a person has one grace month to comply with the training requirements of § 91.1705(a) or (b). Therefore, § 91.1705(e) allows a person to accomplish the recurrent training one month after the month it is due.

³⁰ Successful completion of initial/transition training or requalification training within the preceding twelve months satisfies the requirement of recurrent training. A person must successfully complete initial/transition training or requalification training before being eligible to receive recurrent training. 14 CFR 91.1703(e).

Section 91.1715(c) stipulates that completion of a flight review to satisfy the requirements of § 61.56 is valid for operation of a Mitsubishi MU-2B series airplane only if that flight review is conducted in a Mitsubishi MU-2B series airplane, or an MU-2B simulator approved for landings with an approved course conducted under part 142.

Under the extraordinary circumstances of the COVID-19 public health emergency, the FAA supports extending the relief previously granted for certain experienced pilots flying MU-2B series airplanes to a new group of pilots. This relief is not applicable to pilots that are required to complete initial/transition or requalification training in an MU-2B series airplane ³¹ because these pilots could not meet the qualification requirements.

³¹ See § 91.1703(c) or (d).

With this final rule, a person may obtain one additional grace month to complete the recurrent training requirements.³² To be eligible for this relief, pilots must be qualified under subpart N of part 91 and their base month for completing the recurrent training must fall in October 2020 through January 2021. If a pilot completes the recurrent training requirements within the grace period provided by this SFAR, the requirements will be considered to have been completed in the base month. In addition, to ensure there is no adverse impact to safety, the FAA has determined it is necessary to impose certain qualification requirements on pilots seeking to exercise this relief. The qualification requirements are intended to serve as risk mitigations and are described in the final rule for the original SFAR 118.³³

³² This means a person will have a total of two grace months after the due month, because § 91.1705(e) already provides one grace month. The “grace months” are months after the month in which training is due, during which the pilot is still eligible to meet the recurrent training requirements.

³³ 85 FR 26333.

The FAA reiterates that no additional relief has been provided to pilots who obtained relief under the original SFAR and the first extension. The following table outlines the expiration of relief pertinent to part 91, subpart N for all groups of pilots covered under the terms of the SFAR.

Base month | Part 91, Subpart N SFAR Relief
March through May 2020 | Expired.
June 2020 | Expires September 30, 2020.
July 2020 | Expires October 31, 2020.
August 2020 | Expires November 30, 2020.
September 2020 | Expires December 31, 2020.
October 2020 | Expires December 31, 2020.
November 2020 | Expires January 31, 2021.
December 2020 | Expires February 28, 2021.
January 2021 | Expires March 31, 2021.

4. Part 125 Flight Crewmember Requirements (§§ 125.285, 125.287, 125.289, 125.291, 125.293)

Part 125 certificated operators conduct non-common carriage operations. The FAA issues a Letter of Deviation Authority (LODA) for various kinds of operations to include airplane ferry, sales demonstrations, or training.³⁴ These LODA-holders conduct operations under part 91 and may hold an operating certificate and have operations specifications (OpSpecs).³⁵ The FAA also issues a LODA to an operator that conducts only non-commercial operations (i.e., private use only)—specifically an A125 LODA. Holders of an A125 LODA do not hold an operating certificate or have OpSpecs. Instead, they are issued a letter of authorization (LOA) because the flightcrew members operating under an A125 LODA must comply with the recency, recurrent testing, and proficiency checking requirements of part 125.

³⁴ These are A510, A511, or A512 LODA holders, respectively.

³⁵ Pilots of these LODA-holders comply with the recency, training, and checking requirements of part 61.

Section 125.287 requires a pilot of a part 125 operation to have passed a written or oral test given by the Administrator or a check airman every 12 calendar months and pass a competency check in the type of airplane flown in part 125 operations every 12 calendar months.³⁶ Section 125.289 requires a flight attendant to complete recurrent testing every 12 calendar months. Section 125.293(a) provides for a grace month for crewmembers to complete testing or checking.³⁷ Section 125.291(a) requires that since the beginning of the sixth calendar month before service, the PIC of an airplane in a part 125 operation under IFR must have passed an instrument proficiency check and the Administrator or an authorized check airman has so certified in a letter of competency.³⁸ Finally, § 125.285(a) requires that pilot flight crewmembers complete three takeoffs and landings within the preceding 90 days in the type airplane in which that person is to serve.

³⁶ This section also requires the certificate holder to use a pilot who has passed the written or oral test and competency check within the preceding 12 calendar months.

³⁷ If a crewmember who is required to take a test or check under part 125, if he or she completes the test or check in the calendar month before or after the calendar month in which it is required, that crewmember is considered to have completed the test or check in the calendar month in which it is required.

³⁸ The certificate holder is also required to use a PIC in an airplane of a part 125 IFR operation who has completed the instrument proficiency check within the preceding six calendar months.

The FAA finds, under the extraordinary circumstances of the COVID-19 public health emergency, that extending the relief to a new group of pilots by allowing one additional grace month for completing the recurrent testing, checking, and training requirements does not present a risk to aviation safety that cannot be mitigated. However, in a change from SFAR 118-1, the FAA is granting only an additional thirty days for completing the three required takeoffs and landings. With aviation activity increasing, there are increased opportunities to gain the required takeoffs and landings when compared to the circumstances the industry faced in the original SFAR, and a sixty-day extension is no longer warranted. The requirements of this SFAR ensure that certificate holders and A125 LODA holders demonstrate a plan to mitigate any potential risk introduced by extending flight crewmember qualifications.³⁹

³⁹ Pilots of other LODA-holders would comply with the applicable relief to part 61 training, recency, testing, and checking requirements.

The relief in this final rule applies to requirements for currently qualified flight crewmembers only, whose base month is October 2020 through January 2021. It does not apply to requirements for the training and qualification of new personnel. To utilize the relief provided by this SFAR, the certificate holder or A125 LODA holder must provide an acceptable risk mitigation plan as described in SFAR 118.⁴⁰ If a certificate holder or A125 LODA holder seeks the relief provided in this amendment, the mitigation plan must include reference to crewmembers whose base month is October 2020 through January 2021, as appropriate. This may require an amendment to a previously submitted mitigation plan under the conditions of SFAR 118. However, persons whose base month was March through September 2020 receive no further relief under this portion of the final rule.

⁴⁰ 85 FR 26334.

The following table outlines the expiration of relief pertinent to part 125 for all crewmembers covered under the terms of the SFAR.

Base month | Part 125 SFAR Relief
March through May 2020 | Expired.
June 2020 | Expires September 30, 2020.
July 2020 | Expires October 31, 2020.
August 2020 | Expires November 30, 2020.
September 2020 | Expires December 31, 2020.
October 2020 | Expires December 31, 2020.
November 2020 | Expires January 31, 2021.
December 2020 | Expires February 28, 2021.
January 2021 | Expires March 31, 2021.

5. Robinson R-22/R-44 Special Training and Experience Requirements (SFAR 73)

SFAR 73 established special training and experience requirements for pilots operating the Robinson model R-22 or R-44 helicopters to maintain safe operation of these helicopters.

To act as PIC of a Robinson R-22 or R-44 helicopter, SFAR 73 requires the person to complete the flight review required under § 61.56 in an R-22 or R-44 helicopter, as appropriate to the PIC privileges sought, if the person has at least 200 flight hours in helicopters of which at least 50 flight hours are in the applicable Robinson model helicopter for which the person has PIC privileges.⁴¹ Otherwise, it requires the person to comply with the endorsement requirements of SFAR 73.⁴²

⁴¹ An R-44 PIC may credit up to 25 hours of R-22 PIC time towards the 50 hours of PIC time required in the R-44.

⁴² See 14 CFR part 61, SFAR 73, section 2, paragraph (b)(1) or (2) Aeronautical Experience.

Under the extraordinary circumstances of the COVID-19 public health emergency, the FAA has determined that the PIC of an R-22 or R-44 is compliant with SFAR 73 if the person meets the recency requirements of § 61.56 established in this SFAR in an R-22 or R-44, or both, as appropriate.⁴³ This relief is limited to Robinson pilots that have at least 200 hours in helicopters of which at least 50 hours are in the applicable Robinson model helicopter for which the person has PIC privileges. Low-time Robinson pilots that are required to complete a flight review every twelve calendar months in accordance with SFAR 73 must continue to comply with that SFAR.

⁴³ 85 FR 26335.

For the relief in this SFAR, the flight review must include SFAR 73 awareness training subjects in paragraph 2(a)(3) and the flight training subjects in paragraph 2(b). R-22 or R-44 pilots whose flight review is due in October 2020 through January 2021 may extend an additional two calendar months, provided the pilots meet the requirements prescribed in SFAR 118.

The FAA reiterates that no additional relief has been provided to pilots who obtained relief under the original SFAR and the first extension. The following table outlines the expiration of relief pertinent to SFAR 73 for all groups of pilots covered under the terms of the SFAR.

Base month | SFAR 73 Relief in SFAR 118-2
March through May 2020 | Expired.
June 2020 | Expires September 30, 2020.
July 2020 | Expires October 31, 2020.
August 2020 | Expires November 30, 2020.
September 2020 | Expires December 31, 2020.
October 2020 | Expires December 31, 2020.
November 2020 | Expires January 31, 2021.
December 2020 | Expires February 28, 2021.
January 2021 | Expires March 31, 2021.

B. Relief From Certain Duration and Renewal Requirements

Maintaining the continuity of operations through the relief in section A of this document is important to ensure the stability of essential functions of the U.S. transportation system. The FAA also finds that it is appropriate to provide relief for additional persons for certain duration and renewal requirements because the COVID-19 public health emergency has continued to make compliance difficult. Without extending this short-term relief, some certificate holders will not have the flexibility necessary to schedule testing events or medical exams due to the backlog of required events and the availability of FAA examiners and designees.

The relief discussed more fully in the following sections responds to continued disruptions that have prevented certificate holders from seeking timely renewals of certificates or from completing certain testing activity before expiration dates have passed. Because disruptions have continued as activities resume, the FAA is providing the relief for periods of time deemed necessary to alleviate the burden. The FAA notes that, because of the increased activity and availability of personnel to conduct the exams or testing events, the length of the relief available is reduced in most cases. The FAA has determined, under the extraordinary circumstances of the COVID-19 public health emergency, that this relief will not adversely affect safety because it is narrowly focused on a small segment of the regulated community, it will be in effect for a short duration, and the regulations will provide safeguards to ensure an appropriate level of safety is maintained.

1. Part 61

The FAA is granting temporary regulatory relief from the validity dates for medical certificates. This relief is further described in B.1.a and B.2.a. The FAA also recognizes that the inability to complete a practical test at this time may still be outside the applicant's control due to the available capacity of FAA inspectors or designees who can conduct the practical tests. As a result, the FAA is providing relief to extend the knowledge test validity period as described in B.1.b. As explained in the following sections, however, the FAA has decreased the period of relief in most instances due to improved capacity available, relative to earlier in the COVID-19 public health emergency, for persons to complete medical examinations and airman testing activities throughout the country.

a. Pilot Medical Certificates: Requirement and Duration (§§ 61.2, 61.23)

Section 61.2(a)(5) states that no person may exercise privileges of a medical certificate issued under 14 CFR part 67 if the medical certificate is expired according to the duration standards set forth in § 61.23(d). Section 61.23(d) states that the duration of a medical certificate depends on the age of the person on the date of the medical examination, the duty position in which the person is serving, the type of operation the person is conducting, and the class of certificate.

With the original SFAR 118, the FAA provided relief from medical certificate duration requirements to all pilots to encompass all operations subject to §§ 61.2, 61.23, and 63.3. In the first amendment to the SFAR, the FAA noted that, although some routine activity was resuming and AMEs were beginning to see patients, additional relief was necessary to address the large volume of pilots that needed medical examinations and to give flexibility in scheduling.

Since June, the FAA has seen a continued increase in the availability of its AMEs such that more than 90 percent are currently seeing patients for aviation medical examinations. The September letter from the industry, while noting this improvement, stated that there are still some backlogs and additional relief for the next group of pilots is warranted. The industry letter explained that pilots who hold a special issuance medical certificate, or otherwise are required to supply the FAA with updates on certain medical conditions, may benefit from an extended validity period due to the additional time it may take to see specialists for those conditions and to supply the FAA with that information.

The FAA acknowledges there are some localized backlogs and has identified a few locations that still do not have an available AME. As a result, some pilots may be required to find a new AME to conduct the medical exam and possibly even travel a greater distance from their home to access an available AME. The FAA further notes that its processing of special issuance medicals is taking slightly longer in some cases due to COVID-19 as its workforce continues to address the increased volume of medical records under review. For these reasons, and to afford pilots the flexibility necessary to get the medical visits scheduled, the FAA is extending the validity of medical certificates due to expire in each of the months from October 2020 through January 2021. However, for persons living and serving as pilots in operations outside of Alaska, this extension is for a period of only two calendar months.

In the FAA's assessment of available AMEs, it notes that Alaska continues to have lapses in AME coverage that will require some pilots to travel a significant distance to obtain a medical examination. Locations without an AME include Juneau, Skagway, Homer, and Kenai. Given the many unique areas in Alaska, some pilots will be required to travel by air to another location within the state to get to an AME. Because of the unique circumstances of the COVID-19 public health emergency and the lack of available AMEs in Alaska, the FAA is extending for up to three calendar months the validity of medical certificates due to expire in each of the months from October 2020 through January 2021 for pilots that reside in Alaska or serve as a pilot of an aircraft in Alaska.

The FAA notes that the provisions of this SFAR do not extend to the requirements of § 61.53 regarding prohibition on operations during medical deficiency. These prohibitions remain critical for all pilots to observe, especially given the policy of emergency accommodation announced here and the health threat of COVID-19. Accordingly, the FAA emphasizes that under § 61.53, no person who holds a medical certificate issued under 14 CFR part 67 may act as a required pilot flight crewmember while that person:

(1) Knows or has reason to know of any medical condition that would make the person unable to meet the requirements for the medical certificate necessary for the pilot operation; or

(2) Is taking medication or receiving other treatment for a medical condition that results in the person being unable to meet the requirements for the medical certificate necessary for the pilot operation.

The FAA reiterates that no additional relief has been provided to pilots who obtained relief under the original SFAR and the first extension. The following table outlines the expiration of relief pertinent to § 61.23 for all groups of pilots covered under the terms of the SFAR.

Base month | § 61.23 SFAR Relief (all pilots) | § 61.23 SFAR Relief (Alaska pilots)
March through May 2020 | Expired | Expired.
June 2020 | Expires September 30, 2020 | Expires September 30, 2020.
July 2020 | Expires October 31, 2020 | Expires October 31, 2020.
August 2020 | Expires November 30, 2020 | Expires November 30, 2020.
September 2020 | Expires December 31, 2020 | Expires December 31, 2020.
October 2020 | Expires December 31, 2020 | Expires January 31, 2021.
November 2020 | Expires January 31, 2021 | Expires February 28, 2021.
December 2020 | Expires February 28, 2021 | Expires March 31, 2021.
January 2021 | Expires March 31, 2021 | Expires April 30, 2021.

b. Pilot Prerequisites for Practical Tests (§ 61.39)

Section 61.39 establishes the eligibility requirements for an applicant seeking to take a practical test for a certificate or rating issued under part 61. Among these requirements, an applicant must have passed the required FAA knowledge test within a specified period. Except for the multiengine airplane airline transport pilot (ATP) certificate, FAA knowledge tests are valid for 24 calendar months.⁴⁴ The multiengine airplane ATP knowledge test is valid for 60 calendar months.⁴⁵

⁴⁴ Section 61.39(a)(1)(i) requires the applicant to have passed the required knowledge test within the 24-calendar month period preceding the month the applicant completes the practical test, if a knowledge test is required.

⁴⁵ Section 61.39(a)(1)(ii) requires the applicant to pass the required knowledge test within the sixty-calendar month period preceding the month the applicant completes the practical test for those applicants who complete the ATP certification training program in § 61.156 and pass the knowledge test for an ATP certificate with a multiengine class rating after July 31, 2014.

Because of the COVID-19 public health emergency, an applicant may not have been able to complete a practical test, as planned, prior to the expiration of his or her knowledge test. If an applicant's knowledge test expires before he or she can complete the practical test, that applicant is required to pass another knowledge test prior to completing the practical test. It costs a person $96-$160 per test,⁴⁶ depending upon the testing location, to take an FAA knowledge test. Therefore, requiring a person whose knowledge test result expired during the COVID-19 public health emergency to take another knowledge test would result in an additional economic burden on the applicant.

⁴⁶ FAA Regulatory Support Division provided knowledge test cost information on April 14, 2020.

Although the FAA is seeing increased activity in practical testing activities by its examiners and designees such that activity is approaching pre-COVID-19 levels, the initial disruptions created a backlog that still exists as applicants continue to have trouble scheduling practical tests in some cases. As a result, the FAA has determined, under the extraordinary circumstances of the COVID-19 public health emergency, that it is necessary to amend the regulatory relief originally provided in SFAR 118-1 to extend the validity period of knowledge tests for an additional group of individuals. However, because of the increased activity and improved availability of personnel to conduct practical tests, the FAA is limiting the relief available. Individuals who have knowledge tests expiring between October 2020 and January 2021 will have two additional calendar months to complete their practical test. Therefore, this final rule will allow an individual who has a knowledge test expiring between October 2020 and January 2021 to present the expired knowledge test to show eligibility under § 61.39(a)(1) to take a practical test for a certificate or rating issued under part 61 for an additional two calendar months.⁴⁷

⁴⁷ Except for a multiengine ATP knowledge test, a knowledge test taken for a pilot certificate or rating in October 2018 would expire in October 2020. With the relief in this SFAR, the passing knowledge test results are valid until December 2020.

In addition to passing a knowledge test, the eligibility requirements for taking a practical test require an applicant to satisfactorily accomplish the required training and obtain the aeronautical experience required for the certificate or rating sought.⁴⁸ The regulations also require the applicant to have received flight training from an authorized instructor in preparation for the practical test within the two months preceding the month of the test.⁴⁹ The authorized instructor must endorse the applicant's logbook or training record certifying that the applicant has received and logged this training and is prepared for the required practical test.⁵⁰ While this amended SFAR will allow certain individuals to use an expired knowledge test, the other requirements in part 61 will ensure the individual is prepared for the practical test, and the evaluator administering the practical test will have the opportunity to determine whether the person is qualified to hold the certificate.⁵¹ Under the extraordinary circumstances of the COVID-19 public health emergency, and because the relief applies to a specific group of individuals and is limited in duration, the FAA has determined that these regulatory requirements will provide sufficient assurance that there will be no adverse impact to safety.

⁴⁸ 14 CFR 61.39(a)(3).

⁴⁹ 14 CFR 61.39(a)(6)(i), 61.99, 61.109, 61.129, 61.313.

⁵⁰ 14 CFR 61.39(a)(6).

⁵¹ The regulations require the applicant to pass the practical test on the areas of operation required for the certificate or rating sought. 14 CFR 61.96(b)(7), 61.103(h), 61.123(g), 61.153(h), 61.165(e)(4) and (f)(5), 61.183(h), 61.307(b), 61.405(b)(2).

The FAA reiterates that no additional relief has been provided to applicants who obtained relief under the original SFAR and the first extension. The following table outlines the expiration of relief pertinent to § 61.39 for all applicants covered under the terms of the SFAR.

Expiration month | § 61.39 SFAR Relief
March through May 2020 | Expired.
June 2020 | Expires September 30, 2020.
July 2020 | Expires October 31, 2020.
August 2020 | Expires November 30, 2020.
September 2020 | Expires December 31, 2020.
October 2020 | Expires December 31, 2020.
November 2020 | Expires January 31, 2021.
December 2020 | Expires February 28, 2021.
January 2021 | Expires March 31, 2021.

2. Part 63

As previously described, the FAA is amending the temporary relief from the expiration of medical certificates to provide additional time for airmen to accomplish medical examinations and obtain new medical certificates. Similarly, medical relief for flight engineers is necessary as described in B.2.a. Extending knowledge test passing results for flight engineers is also necessary and explained in B.2.b.

a. Flight Engineer Medical Certificates (§ 63.3)

Section 63.3(b) states that a person may act as a flight engineer of an aircraft only if that person holds a current second-class medical certificate issued to that person under part 67. For the reason previously stated in section B.1.a and subject to the same conditions and limitations, the FAA has determined that flight engineers may operate with a medical certificate that has had its validity period extended for a period not to exceed two calendar months without creating a risk to aviation safety that is unacceptable under the extraordinary circumstances surrounding the COVID-19 public health emergency. Accordingly, the FAA is amending SFAR 118-1 and extending the validity period for medical certificates that expire in each month from October 2020 through January 2021 by two calendar months for flight engineers that do not live in Alaska or serve as a flight engineer in Alaska.

Consistent with the relief to pilots that reside in Alaska or serve as a flight engineer of an aircraft in Alaska explained in section B.1.a, flight engineers who reside in Alaska or serve as a flight engineer in an aircraft in Alaska will be granted additional relief not to exceed an extension of three calendar months. In this unique circumstance, those flight engineers who hold medical certificates that expire in each month from October 2020 through January 2021 will have up to three calendar months to obtain a medical certificate.

The FAA notes that the provisions of this SFAR do not extend to the requirements of § 63.19 regarding prohibition on operations during physical deficiency. These prohibitions remain critical for all flight engineers to observe, especially given the policy of emergency accommodation announced here and the health threat of COVID-19. Accordingly, the FAA emphasizes that under § 63.19, no person who holds a medical certificate issued under 14 CFR part 67 may serve as a flight engineer during a period of known physical deficiency, or increase in physical deficiency, that would make him or her unable to meet the physical requirements for his or her current medical certificate.

The FAA reiterates that no additional relief has been provided to flight engineers who obtained relief under the original SFAR and the first extension. The following table outlines the expiration of relief pertinent to § 63.3 for all groups of flight engineers covered under the terms of the SFAR.

Base month | § 63.3 SFAR Relief (all flight engineers) | § 63.3 SFAR Relief (Alaska flight engineers)
March through May 2020 | Expired | Expired.
June 2020 | Expires September 30, 2020 | Expires September 30, 2020.
July 2020 | Expires October 31, 2020 | Expires October 31, 2020.
August 2020 | Expires November 30, 2020 | Expires November 30, 2020.
September 2020 | Expires December 31, 2020 | Expires December 31, 2020.
October 2020 | Expires December 31, 2020 | Expires January 31, 2021.
November 2020 | Expires January 31, 2021 | Expires February 28, 2021.
December 2020 | Expires February 28, 2021 | Expires March 31, 2021.
January 2021 | Expires March 31, 2021 | Expires April 30, 2021.

b. Flight Engineer Knowledge Requirements (§ 63.35)

Section 63.35 establishes the knowledge requirements for a person seeking a flight engineer certificate. Paragraph (d) states the applicant for a flight engineer certificate or rating must have passed the written tests required by paragraphs (a) and (b) since the beginning of the 24th calendar month before the month in which the flight is taken.⁵²

⁵² Exceptions to the 24-calendar month limitation are prescribed in paragraphs (d)(1) for applicants employed as a flight crewmember or mechanic by an air carrier; or (d)(2) for applicants that participated in a military flight engineer or maintenance program.

For the reasons discussed in section B.1.b of this preamble and subject to the same condition and limitations, the FAA is also amending the relief in SFAR 118-1 to expand it to include persons seeking a flight engineer certificate under part 63 who have written tests expiring between October 2020 and January 2021. Consistent with the relief provided to pilot applicants under part 61, the FAA is extending the validity of written tests under part 63 for a duration of two calendar months.⁵³ The FAA finds, under the extraordinary circumstances of the COVID-19 public health emergency, that this relief will not adversely affect safety because it is narrowly focused on a small segment of the regulated community, it will be in effect for a short period of time, and the regulations will provide adequate safeguards to ensure an appropriate level of safety is maintained.

⁵³ A written test taken for a flight engineer certificate in October 2018 would expire in October 2020. With the relief in this SFAR, the passing written test results are valid until December 2020.

The FAA reiterates that no additional relief has been provided to applicants who obtained relief under the original SFAR and the first extension. The following table outlines the expiration of relief pertinent to § 63.35 for all applicants covered under the terms of the SFAR.

Expiration month | § 63.35 SFAR Relief
March through May 2020 | Expired.
June 2020 | Expires September 30, 2020.
July 2020 | Expires October 31, 2020.
August 2020 | Expires November 30, 2020.
September 2020 | Expires December 31, 2020.
October 2020 | Expires December 31, 2020.
November 2020 | Expires January 31, 2021.
December 2020 | Expires February 28, 2021.
January 2021 | Expires March 31, 2021.

3. Part 65

As described for pilots and flight engineers, extending knowledge test and written test results for aircraft dispatchers and mechanics, respectively, is also warranted and further described in B.3.a. and B.3.b. The FAA finds, under the extraordinary circumstances of the COVID-19 public health emergency, that the relief provided to part 65 airmen will not adversely affect safety because it is narrowly focused on a small segment of the regulated community, it will be in effect for a short period of time, and the existing regulations will provide adequate safeguards to ensure an appropriate level of safety is maintained.

a. Aircraft Dispatcher Knowledge Requirements (§ 65.55)

Section 65.55 establishes the knowledge requirements for a person seeking an aircraft dispatcher certificate. Paragraph (b) requires the applicant for an aircraft dispatcher certificate to present passing knowledge test results within the preceding 24 calendar months.

For the reasons discussed in section B.1.b and subject to the same conditions and limitations, the FAA, under the extraordinary circumstances of the COVID-19 public health emergency, is also amending the relief in SFAR 118 to extend it to persons seeking an aircraft dispatcher certificate under part 65 who have knowledge tests expiring between October 2020 and January 2021. Therefore, consistent with the relief provided to pilot applicants under part 61 and flight engineer applicants under part 63, the FAA is extending the validity of knowledge tests under § 65.55 for a duration of two calendar months. Accordingly, an individual who has a knowledge test expiring between October 2020 and January 2021 may present the expired knowledge test to show eligibility under § 65.55 to take a practical test for an aircraft dispatcher certificate for a period of two calendar months.⁵⁴

⁵⁴ A knowledge test taken for an aircraft dispatcher certificate in October 2018 would expire in October 2020. With the relief in this SFAR, the passing knowledge test results are valid until December 2020.

The FAA reiterates that no additional relief has been provided to applicants who obtained relief under the original SFAR and the first extension. The following table outlines the expiration of relief pertinent to § 65.55 for all applicants covered under the terms of the SFAR.

Expiration month | § 65.55 SFAR Relief
March through May 2020 | Expired.
June 2020 | Expires September 30, 2020.
July 2020 | Expires October 31, 2020.
August 2020 | Expires November 30, 2020.
September 2020 | Expires December 31, 2020.
October 2020 | Expires December 31, 2020.
November 2020 | Expires January 31, 2021.
December 2020 | Expires February 28, 2021.
January 2021 | Expires March 31, 2021.

b. Mechanic Certificate Eligibility Requirements (§ 65.71)

Section 65.71 establishes the eligibility requirements for a mechanic certificate and associated ratings. Paragraph (a)(3) requires an applicant to have passed all the prescribed tests within a period of 24 months from the initiation of testing. Testing for a FAA mechanic certificate includes three tests, which are the written, oral, and practical.⁵⁵ Section 65.75 establishes the knowledge requirements, including the requirement to pass a written test. Section 65.79 contains the skill requirements, including the requirement to pass an oral and practical test. In addition, § 65.71(b) requires a certificated mechanic who applies for an additional rating to meet the experience requirements of § 65.77 and, within a period of 24 months, pass the written test required by § 65.75 and the oral and practical tests required by § 65.79 for the additional rating sought.

⁵⁵ Under part 65, subpart D, the FAA may issue an airframe or powerplant rating. 14 CFR 65.73.

For the reasons discussed in section B.1.b of this preamble, the FAA, under the extraordinary circumstances of the COVID-19 public health emergency, is also amending SFAR 118 and extending the relief to persons seeking a mechanic certificate or rating issued under part 65 who have testing periods expiring between October 2020 and January 2021. Therefore, consistent with the relief provided under parts 61 and 63, the FAA is extending the validity of the testing period under § 65.71 for a duration of two months. Accordingly, an individual who has a testing period expiring in October through January 2021 may show eligibility under § 65.71 to take a practical test for a mechanic certificate or rating provided the testing period does not exceed 26 months.⁵⁶

⁵⁶ If a testing period was to expire on October 31, 2020, this SFAR extends the testing period to December 31, 2020.

The FAA reiterates that no additional relief has been provided to applicants who obtained relief under the original SFAR and the first extension. The following table generally outlines the expiration of relief pertinent to § 65.71 for all applicants covered under the terms of the SFAR. Because mechanic testing periods do not use a calendar month, the exact date when the period started will determine the exact date of expiration of SFAR relief.

Expiration month | § 65.71 SFAR Relief
March through May 2020 | Expired.
June 2020 | Expires September 2020.
July 2020 | Expires October 2020.
August 2020 | Expires November 2020.
September 2020 | Expires December 2020.
October 2020 | Expires December 2020.
November 2020 | Expires January 2021.
December 2020 | Expires February 2021.
January 2021 | Expires March 2021.

C. Other Relief for Special Flight Permits (§ 21.197)

Section 21.197(c) provides that a special flight permit with a continuing authorization may be issued for aircraft that may not meet applicable airworthiness requirements, but are capable of safe flight, for the purpose of flying aircraft to a base where maintenance or alterations are performed. In the original SFAR, the FAA provided relief through December 31, 2020 to certificate holders and operators authorized to conduct operations under part 119 or under subpart K of part 91 for ferrying aircraft that may not meet all airworthiness requirements, but are capable of safe flight, to a point of storage.⁵⁷ Due to the COVID-19 public health emergency, airlines had significantly reduced operations in the National Airspace System. Domestic airlines sought space to park their fleets and airport operators worked to find locations to support the temporary overflow aircraft.

⁵⁷ SFAR 118 provided relief pertaining to special flight permits through December 31, 2020. In the first extension of the SFAR, the FAA stated that it was making no change to the duration of the relief for special flight permits, but in that extension (SFAR 118-1) the December 31, 2020 termination date for this relief was inadvertently removed from paragraph 4 of the rule text. As a result, although the FAA had intended no change in SFAR 118-1, the rule text resulted in the relief for special flight permits terminating on March 31, 2021, which was the stated expiration date for SFAR 118-1 as a whole. SFAR 118-2 thus intentionally and unambiguously provides the relief through March 31, 2021 that SFAR 118-1 inadvertently provided.

Although airline and fractional ownership operations have increased since March, they still remain well below the typical volume of flights on a daily basis, resulting in a continued need for aircraft storage. As the public health emergency continues to impact those sectors of the aviation industry, locations selected for temporary storage may not be adequate for this longer period (e.g., because of the seasonal climate at the temporary storage location) and additional movements of those aircraft to different storage locations is likely. This would continue to place a significant burden on certificate holders and operators. It could also impose burdens on the responsible FAA Flight Standards offices that oversee these operators if individual ferry permits need to be processed for every aircraft that needs to be moved to a point of storage. As a result, the FAA has decided to extend relief for § 21.197(c) to March 31, 2021.

IV. Regulatory Notices and Analyses

Changes to Federal regulations must undergo several analyses. First, Executive Orders 12866 and 13563 direct that each Federal agency shall propose or adopt a regulation only upon a reasoned determination that the benefits of the intended regulation justify its costs. In addition, DOT rulemaking procedures in 49 CFR part 5 instruct DOT agencies to issue a regulation upon a reasoned determination that benefits exceed costs. Second, the Regulatory Flexibility Act of 1980 (Pub. L. 96-354), as codified in 5 U.S.C. 603 et seq., requires agencies to analyze the economic impact of regulatory changes on small entities. Third, the Trade Agreements Act of 1979 (Pub. L. 96-39), as codified in 19 U.S.C. Chapter 13, prohibits agencies from setting standards that create unnecessary obstacles to the foreign commerce of the United States. In developing U.S. standards, the Trade Agreements Act requires agencies to consider international standards and, where appropriate, that they be the basis of U.S. standards. Fourth, the Unfunded Mandates Reform Act of 1995 (Pub. L. 104-4), as codified in 2 U.S.C. Chapter 25, requires agencies to prepare a written assessment of the costs, benefits, and other effects of proposed or final rules that include a Federal mandate likely to result in the expenditure by State, local, or tribal governments, in the aggregate, or by the private sector, of $100 million or more annually (adjusted for inflation with base year of 1995). The FAA also analyzes this regulation under the Paperwork Reduction Act. This portion of the preamble summarizes the FAA's analysis of the economic impacts of this final rule.

In conducting these analyses, the FAA has determined this rule is not a significant regulatory action, as defined in section 3(f) of Executive Order 12866 and under DOT rulemaking procedures. As notice and comment under 5 U.S.C. 553 are not required for this final rule, the regulatory flexibility analyses described in 5 U.S.C. 603 and 604 regarding impacts on small entities are not required. This rule will not create unnecessary obstacles to the foreign commerce of the United States. This rule will not impose an unfunded mandate on State, local, or tribal governments, or on the private sector, by exceeding the threshold identified previously. To take advantage of the relief from this SFAR, this rule will result in a one-time collection of information for affected operators and pilot schools to submit plans to mitigate safety risks and ensure proficiencies.

A. Regulatory Evaluation

i. Safety and Regulatory Relief Benefits

The provisions in this final rule amend the regulatory relief provided in SFAR 118-1. The amended relief applies to new persons who may have challenges complying with certain training, recent experience, testing, and checking requirements. Without the relief in this SFAR, beginning October 1, 2020, and with each month thereafter, a new group of pilots will become unavailable to perform critical operations due to an inability to comply with regulatory requirements. This relief allows affected operators to continue to use pilots and other crewmembers in support of essential operations during this extended period. In addition, this rule provides regulatory relief to persons unable to meet duration and renewal requirements due to the public health emergency.

The regulatory relief in this amendment will enable the continuity of aviation operations that are critical during the COVID-19 public health emergency and recovery, including operations that support essential services and flights that support response efforts. In addition, this rule contains regulatory relief for persons who are unable to satisfy certain requirements, to prevent those persons from enduring unnecessary economic burdens due to circumstances related to the public health emergency that are outside of their control. This rule also provides additional flexibility for scheduling training and qualification activities as the U.S. continues its various phases of reopening.

In addition, this relief applies to some operations conducted by pilots exercising private pilot privileges, provided the pilot has at least 500 hours of total time as a pilot of which 400 hours is as PIC with 50 of the PIC hours accrued in the last twelve calendar months. As previously discussed, the kinds of operations permitted include, but are not limited to, flights to transport essential goods and/or medical supplies to support public health needs. This rule also extends to pilots conducting charitable medical flights for a volunteer pilot organization pursuant to an exemption issued under part 11, provided the pilots continue to comply with the conditions and limitations of the exemption.

In addition to pilots, this rule provides temporary relief to other persons such as flight attendant crewmembers, aircraft dispatchers, flight engineers, mechanics, and instructors. This relief extends to flight attendant crewmembers, check pilots, and flight instructors under subpart K of part 91, and part 125.

ii. Costs To Utilize Relief

This rule will result in small costs for affected operators to notify the FAA and submit plans to mitigate safety risks and ensure proficiencies. To take advantage of the extended relief provided by this rule, an affected certificate holder or A125 LODA holder will be required to submit a new or revised mitigation plan to its assigned FAA principal operations inspector. The plan will contain a safety analysis and corresponding risk mitigations and methods to ensure that each crewmember remains adequately tested and currently proficient for each aircraft, duty position, and type of operation in which the person serves. Similarly, part 91 management specifications holders must also conduct a safety analysis and provide appropriate mitigations in a plan to their FAA principal inspector that addresses potential risks introduced by extending crewmember, check pilot, and flight instructor qualifications, training, and checking. The plan must ensure crewmembers remain adequately trained and currently proficient for each aircraft, crewmember position, and type of operation in which the crewmember serves.

The FAA expects these plans to contain existing information maintained by affected operators. The FAA does not expect these plans to be burdensome.

Therefore, the FAA expects the benefits of this action exceed the costs since it provides additional relief to enable operators to continue to use pilots and other crewmembers in support of essential operations. As a result, this rule will reduce disruption to the continuity of essential services in response to the COVID-19 public health emergency. This rule also provides extended relief from certain duration and renewal requirements to reduce unnecessary risk of exposure and to assure persons that they will not endure economic burdens due to non-compliance with certain regulations.

B. Regulatory Flexibility Act

The Regulatory Flexibility Act (RFA), in 5 U.S.C. 603, requires an agency to prepare an initial regulatory flexibility analysis describing impacts on small entities whenever an agency is required by 5 U.S.C. 553, or any other law, to publish a general notice of proposed rulemaking for any proposed rule. Similarly, 5 U.S.C. 604 requires an agency to prepare a final regulatory flexibility analysis when an agency issues a final rule under 5 U.S.C. 553, after being required by that section or any other law to publish a general notice of proposed rulemaking. The FAA found good cause to forgo notice and comment and any delay in the effective date for this rule. As notice and comment under 5 U.S.C. 553 are not required in this situation, the regulatory flexibility analyses described in 5 U.S.C. 603 and 604 are not required.

C. International Trade Impact Assessment

The Trade Agreements Act of 1979 (Pub. L. 96-39) prohibits Federal agencies from establishing standards or engaging in related activities that create unnecessary obstacles to the foreign commerce of the United States. Pursuant to this Act, the establishment of standards is not considered an unnecessary obstacle to the foreign commerce of the United States, so long as the standard has a legitimate domestic objective, such as the protection of safety, and does not operate in a manner that excludes imports that meet this objective. The statute also requires consideration of international standards and, where appropriate, that they be the basis for U.S. standards.

The FAA has assessed the potential effect of this final rule and determined that its purpose has a legitimate domestic objective to promote the continuity and safety of U.S. civil aviation from risks of the COVID-19 public health emergency while supporting essential services necessary to fight the public health emergency. Therefore, the FAA has determined this final rule complies with the Trade Agreements Act of 1979.

D. Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $155 million in lieu of $100 million.

This final rule does not contain such a mandate. Therefore, the requirements of Title II of the Act do not apply.

E. Paperwork Reduction Act

The Paperwork Reduction Act of 1995 (44 U.S.C. 3507(d)) requires that the FAA consider the impact of paperwork and other information collection burdens imposed on the public.

As previously discussed, to utilize the temporary relief provided by this SFAR amendment, an affected certificate holder or a part 125 LODA holder must provide a plan to its assigned FAA principal operations inspector. The plan is to contain a safety analysis and corresponding risk mitigations and methods to ensure that each crewmember remains adequately tested and currently proficient for each aircraft, duty position, and type of operation in which the person serves.

While SFAR 118-1 provided relief in the form of a grace period for those entities whose base month for completing the recurrent testing, checking, and training requirements was March through September 2020, this final rule extends the grace period to those whose base month falls in October 2020 through January 2021. A part 125 certificate holder or A125 LODA holder will, therefore, be required to submit a new or revised mitigation plan to take advantage of the relief provided in this amendment.

In SFAR 118-1, the FAA estimated that of the 69 part 125 certificate holders and A125 LODA holders, all would avail themselves of the relief provided by SFAR 118-1, and therefore would be required to provide mitigation plans to their assigned principal operations inspector. This action was in addition to the plans submitted for the original SFAR 118 by all 69 part 125 certificate holders and A125 LODA holders. For this final rule, the FAA estimates that those same 69 part 125 certificate holders and A125 LODA holders will avail themselves of the extended grace period for those entities whose base month falls in October 2020 through January 2021 and will submit new or revised mitigation plans. The FAA continues to estimate that each respondent would spend two hours preparing and submitting its plan, for a total of 138 hours. The FAA believes the additional paperwork burden would be borne by the director of operations. At $51 per hour multiplied by 138 total hours, the FAA estimates the total burden to part 125 certificate holders and A125 LODA holders for this amendment to be $7,038.⁵⁸ Therefore, the total burden of this collection is estimated to be $21,114.⁵⁹

⁵⁸ The FAA is using the BLS wage rate for commercial pilots of $39.54 per hour (https://www.bls.gov/ooh/transportation-and-material-moving/airline-and-commercial-pilots.htm) ($82,240/2080 hours = $39.54) multiplied by a fringe benefit multiplier of 29.9 percent (https://www.bls.gov/news.release/ecec.nr0.htm) which results in an hourly wage of $51.

⁵⁹ The burden for the original plan submission from SFAR 118 and the revised plan submission from SFAR 118-1 was $14,076. That is added to the amendment burden for new or revised plan submissions of $7,038 for a total of $21,114.

The FAA estimates that it would require an Aviation Safety Inspector (ASI) one hour to review and analyze a plan submitted by a part 125 certificate holder or A125 LODA holder. With 69 part 125 certificate holders or A125 LODA holders estimated to have submitted a plan to take advantage of the relief in SFAR 118, and the same 69 part 125 certificate holders and A125 LODA holders estimated to have submitted a new or revised plan for SFAR 118-1, and the same 69 part 125 certificate holders and A125 LODA holders are expected to submit a new or revised plan for this amendment, the total number of plans for review by an ASI is 207. The total number of plans to review multiplied by the hourly wage of a GS-13 FAA ASI results in an estimated burden to the FAA of $20,580 (207 responses × 1 hour × $99.42 = $20,580).⁶⁰

⁶⁰ The FAA assumes a mid-grade GS-13 salary, Rest of USA locality. Annual salary is $103,396 (https://www.opm.gov/policy-data-oversight/pay-leave/salaries-wages/salary-tables/pdf/2020/RUS.pdf) divided by 2,080 hours for an hourly rate of $49.70. The FAA uses a fringe benefits and overhead cost, for FAA employees, of 100%, which results in a fully loaded wage of $99.42 per hour. The U.S. Department of Health and Human Services, “Guidelines for Regulatory Impact Analysis” (2016), on page 30, HHS states, “As an interim default, while HHS conducts more research, analysts should assume overhead costs (including benefits) are equal to 100 percent of pretax wages . . .” (https://aspe.hhs.gov/system/files/pdf/242926/HHS_RIAGuidance.pdf).

As provided under 5 CFR 1320.13, Emergency Processing, and the Paperwork Reduction Act and its implementing regulations, DOT requested emergency processing to amend the temporary collection of information previously approved under emergency processing with the original SFAR (OMB 2120-0788). DOT could not reasonably comply with normal clearance procedures because the information is necessary to provide temporary relief to persons who have been unable to meet certain requirements during the COVID-19 public health emergency. Without this information, certain individuals will not be able to continue exercising privileges in support of essential operations due to their inability to satisfy certain training, recent experience, testing, and checking requirements. The use of normal clearance procedures would have resulted in increased economic burden, disruption to critical aviation operations, and increased risk of exposure during this public health emergency. Due to the pressing considerations associated with the COVID-19 public health emergency, it was not practicable to afford ninety days of public comment on this collection of information. Therefore, the FAA requested OMB approval of this temporary collection of information. OMB approved the FAA's emergency clearance request through March 31, 2021.

F. International Compatibility

In keeping with U.S. obligations under the Convention on International Civil Aviation, it is FAA policy to conform to International Civil Aviation Organization (ICAO) Standards and Recommended Practices (SARPs) to the maximum extent practicable. On April 3, 2020, ICAO issued a State Letter (AN 11/55-20/50) to address operational measures States are taking to ensure safe operations during the COVID-19 public health emergency. ICAO recognized the varying needs of the States to provide relief and encouraged States to be flexible in their approaches for relief while also adhering to their obligations under the Convention on International Civil Aviation. During this period of relief, ICAO is paying particular attention to the SARPs related to certificates and licenses. ICAO has established a process for States to file temporary differences through a COVID-19 Contingency-Related Differences (CCRDs) sub-system, which is accessible through ICAO's Continuous Monitoring Approach (CMA) Online Framework of Electronic Filing of Differences (EFOD) dashboard that States use normally to file differences related to the Annexes. When States are submitting their differences, ICAO is requiring the State also to indicate whether it will recognize the differences of other States. FAA has already filed temporary differences with some of the relief it has given through exemptions under 14 CFR part 11 and has indicated it will recognize other States' differences unless the FAA deems safety is being compromised. ICAO tentatively plans to maintain the CCRD sub-system through March 31, 2021.

The FAA has reviewed the corresponding ICAO SARPs and has identified the following differences with these proposed regulations. In Annex 1, section 1.2.4.4.1, a medical assessment can be extended at the FAA's discretion up to 45 days. With this final rule, the FAA is extending the validity by two calendar months for pilots with expiring medicals between October 2020 and January 2021, with the exception of pilots and flight engineers who reside in Alaska or serve as a pilot or flight engineer in an aircraft in Alaska (for whom the FAA is extending the validity by three months). As a result, the FAA will update the temporary difference filed with ICAO.

In Annex 6, Part 2, Section 3.9.4.2, a PIC is required to have made three takeoffs and landings within the preceding ninety days on the same type of airplane or in a flight simulator prior to serving as a PIC in that airplane. With this final rule, the FAA is extending the look-back period by 30 days for PICs conducting operations under part 125. As a result, the FAA will update the temporary difference filed with ICAO.

In Annex 6, Part 2, Section 3.9.4.3, an SIC is required to have made three takeoffs and landings within the preceding ninety days on the same type of airplane or in a flight simulator prior to serving as a SIC in that airplane. With this final rule, the FAA is extending the look-back period by 30 days for SICs conducting operations under part 125. As a result, the FAA will update the temporary difference filed with ICAO.

Apart from this SFAR's application within the United States, certificate holders or operators may dispatch or release flights, and pilots and crewmembers may operate outside of the United States under this SFAR, unless otherwise prohibited by a foreign country. For international operations where pilots and crewmembers will exercise the relief identified here, they must have access to this SFAR when outside the United States. In accordance with the Convention on International Civil Aviation (Chicago Convention), and its Annexes, pilots and crewmembers must present a copy of this SFAR for inspection upon request by a foreign civil aviation authority.

V. Executive Order Determinations

A. Executive Order 12114, Environmental Effects Abroad of Major Federal Actions

The FAA has analyzed this action under Executive Order 12114, Environmental Effects Abroad of Major Federal Actions (44 FR 1957, January 4, 1979), and DOT Order 5610.1C, Paragraph 16. Executive Order 12114 requires the FAA to be informed of environmental considerations and take those considerations into account when making decisions on major Federal actions that could have environmental impacts anywhere beyond the borders of the United States. Like SFAR 118, the FAA has determined that this action is exempt pursuant to Section 2-5(a)(i) of Executive Order 12114 because it does not have the potential for a significant effect on the environment outside the United States.

In accordance with FAA Order 1050.1F, Environmental Impacts: Policies and Procedures, paragraph 8-6(c), the FAA has prepared a memorandum for the record stating the reason(s) for this determination and has placed it in the docket for SFAR 118 (the same docket for this rulemaking). The FAA reviewed the memorandum it added to the docket to support SFAR 118 and finds the determination applies to this rule unchanged.

B. Executive Order 13132, Federalism

The FAA has analyzed this final rule under the principles and criteria of Executive Order 13132, Federalism. The agency determined that this action will not have a substantial direct effect on the States, or the relationship between the Federal Government and the States, or on the distribution of power and responsibilities among the various levels of government, and, therefore, does not have federalism implications.

C. Executive Order 13211, Regulations that Significantly Affect Energy Supply, Distribution, or Use

The FAA analyzed this final rule under Executive Order 13211, Actions Concerning Regulations that Significantly Affect Energy Supply, Distribution, or Use (May 18, 2001). The agency has determined that it is not a “significant energy action” under the Executive order and it is not likely to have a significant adverse effect on the supply, distribution, or use of energy.

D. Executive Order 13609, Promoting International Regulatory Cooperation

Executive Order 13609, Promoting International Regulatory Cooperation, promotes international regulatory cooperation to meet shared challenges involving health, safety, labor, security, environmental, and other issues and to reduce, eliminate, or prevent unnecessary differences in regulatory requirements. As described in Section IV. F., International Compatibility, the FAA is working with ICAO and other foreign Civil Aviation Authorities (CAAs) on the kind of relief provided by this SFAR. The FAA has analyzed this action under the policies and agency responsibilities of Executive Order 13609, and has determined that this action would have no effect on international regulatory cooperation. The provisions in this final rule provide temporary relief to persons who are unable to meet certain requirements during the COVID-19 public health emergency and prevents persons from encountering situations that would unnecessarily increase the risk of transmission of the virus through personal contact.

F. Executive Order 13771, Reducing Regulation and Controlling Regulatory Costs

This rule is not an E.O. 13771 regulatory action because this rule is not significant under E.O. 12866.

VI. How To Obtain Additional Information

A. Availability of Rulemaking Documents

An electronic copy of a rulemaking document may be obtained by using the internet—

1. Search the Federal eRulemaking Portal (https://www.regulations.gov/);

2. Visit the FAA's Regulations and Policies web page at https://www.faa.gov/regulations_policies/ or

3. Access the Government Printing Office's web page at https://www.govinfo.gov/.

Copies may also be obtained by sending a request (identified by notice, amendment, or docket number of this rulemaking) to the Federal Aviation Administration, Office of Rulemaking, ARM-1, 800 Independence Avenue SW, Washington, DC 20591, or by calling (202) 267-9677.

B. Small Business Regulatory Enforcement Fairness Act

The Small Business Regulatory Enforcement Fairness Act (SBREFA) of 1996 requires FAA to comply with small entity requests for information or advice about compliance with statutes and regulations within its jurisdiction. A small entity with questions regarding this document, may contact its local FAA official, or the person listed under the FOR FURTHER INFORMATION CONTACT heading at the beginning of the preamble. To find out more about SBREFA, visit https://www.faa.gov/regulations_policies/rulemaking/sbre_act/.

List of Subjects

14 CFR Part 21

Aircraft, Aviation safety, Exports, Imports, Reporting and recordkeeping requirements.

14 CFR Part 61

Aircraft, Airmen, Aviation safety, Reporting and recordkeeping requirements, Security measures, Teachers.

14 CFR Part 63

Aircraft, Airman, Aviation safety, Navigation (air), Reporting and recordkeeping requirements, Security measures.

14 CFR Part 65

Air traffic controllers, Aircraft, Airmen, Airports, Aviation safety, Reporting and recordkeeping requirements, Security measures.

14 CFR Part 91

Air carrier, Air taxis, Air traffic control, Aircraft, Airmen, Airports, Aviation safety, Charter flights, Freight, Reporting and recordkeeping requirements, Transportation.

14 CFR Part 107

Aircraft, Airmen, Aviation safety, Reporting and recordkeeping requirements, Security measures, Signs and symbols.

14 CFR Part 125

Aircraft, Airmen, Aviation safety, Reporting and recordkeeping requirements.

14 CFR Part 141

Airmen, Educational facilities, Reporting and recordkeeping requirements, Schools.

The Amendment

In consideration of the foregoing, the Federal Aviation Administration amends chapter I of title 14, Code of Federal Regulations, as follows:

PART 21—CERTIFICATION PROCEDURES FOR PRODUCTS AND ARTICLES

1. The authority citation for part 21 continues to read as follows:

Authority: 42 U.S.C. 7572; 49 U.S.C. 106(f), 106(g), 40105, 40113, 44701-44702, 44704, 44707, 44709, 44711, 44713, 44715, 45303.

2. Remove Special Federal Aviation Regulation (SFAR) No. 118-1 from part 21 and add, in its place, SFAR No. 118-2 to part 21 to read as follows:

Special Federal Aviation Regulation No. 118-2—Relief for Certain Persons During the National Emergency Concerning the Novel Coronavirus Disease (COVID-19) Public Health Emergency

For the text of SFAR No. 118-2, see part 61 of this chapter.

PART 61—CERTIFICATION: PILOTS, FLIGHT INSTRUCTORS, AND GROUND INSTRUCTORS

3. The authority citation for part 61 continues to read as follows:

Authority: 49 U.S.C. 106(f), 106(g), 40113, 44701-44703, 44707, 44709-44711, 44729, 44903, 45102-45103, 45301-45302; Sec. 2307 Pub. L. 114-190, 130 Stat. 615 (49 U.S.C. 44703 note).

4. Remove Special Federal Aviation Regulation (SFAR) No. 118-1 from part 61 and add, in its place, SFAR No. 118-2 to part 61 to read as follows:

Special Federal Aviation Regulation No. 118-2—Relief for Certain Persons During the National Emergency Concerning the Novel Coronavirus Disease (COVID-19) Public Health Emergency

1. Applicability. This Special Federal Aviation Regulation (SFAR) applies to—

(a) Certain persons who are unable to meet the following requirements during some period between March 1, 2020 and January 31, 2021—

(1) Training, recency, testing and checking requirements specified in parts 61, 91, 107, and 125 of this chapter, and SFAR No. 73 of this part; and

(2) Duration and renewal requirements specified in parts 61, 63, 65, and 141 of this chapter, and SFAR No. 100-2 of this part; and

(b) Certain air carriers and operators who are unable to obtain special flight permits with a continuing authorization under part 21 of this chapter for the purpose of flying the aircraft to a point of storage.

2. Training, recency, testing, and checking requirements.

(a) Applicability. The relief provided by paragraph 2 of this SFAR applies to—

(1) Operations conducted for compensation or hire under parts 91, 125, 133, and 137 of this chapter by persons who are exercising the privileges of at least a commercial pilot certificate issued under this part;

(2) Operations conducted by persons who are exercising the privileges of a private pilot certificate issued under this part, provided the person meets one of the following paragraphs—

(i) The person is conducting a charitable medical flight for a volunteer pilot organization pursuant to an exemption issued under part 11 of this chapter, and the flight involves only the carriage of persons considered essential for the flight;

(ii) The person is conducting an agricultural aircraft operation under a private agricultural aircraft operating certificate issued in accordance with § 137.19 of this chapter;

(iii) The person has at least 500 hours of total time as a pilot, that includes at least 400 hours as a pilot in command and at least 50 hours that were accrued within the preceding 12 calendar months, and the person is conducting one of the following operations consistent with the compensation or hire exceptions specified in § 61.113:

(A) A flight incidental to that person's business or employment;

(B) A flight in support of family medical needs or to transport essential goods for personal use;

(C) A flight necessary to fly an aircraft to a location in order to meet a requirement of this chapter; or

(D) A flight to transport essential goods and medical supplies to support public health needs;

(3) For operations conducted under part 91, subpart K, and part 125 of this chapter, persons who are serving as flight attendant crewmembers, check pilots, and flight instructors; and

(4) Operations conducted under part 107 of this chapter by a person who holds a remote pilot certificate issued under part 107 of this chapter.

(b) This Part.

(1) Second-in-command qualifications of § 61.55. (i) Airmen requirements. (A) Notwithstanding the period specified in § 61.55(c), a person who is required to complete the second-in-command familiarization and currency requirements under § 61.55(b)(1) and (2) between March 1, 2020 and September 30, 2020 for purposes of maintaining second-in-command privileges may complete the requirements of § 61.55(b)(1) and (2) in the month before or three months after the month in which they are required, provided the pilot meets the requirements of paragraph 2.(b)(1)(ii) of this SFAR.

(B) Notwithstanding the period specified in § 61.55(c), a person who is required to complete the second-in-command familiarization and currency requirements under § 61.55(b)(1) and (2) between October 1, 2020 and January 31, 2021 for purposes of maintaining second-in-command privileges may complete the requirements of § 61.55(b)(1) and (2) in the month before or two months after the month in which they are required, provided the pilot meets the requirements of paragraph 2.(b)(1)(ii) of this SFAR.

(C) A pilot who meets the requirements of § 61.55(b)(1) and (2) in accordance with paragraph 2.(b)(1)(i)(A) or paragraph 2.(b)(1)(i)(B) of this SFAR will be considered to have completed the requirements in the month in which they were due.

(ii) Qualification requirements. To complete the requirements of § 61.55(b)(1) or (2) within the period specified in paragraph 2.(b)(1)(i)(A) or paragraph 2.(b)(1)(i)(B) of this SFAR, the person—

(A) Must review and become familiar with the following information for the specific type of aircraft for which second-in-command privileges are sought—

(1) Operational procedures applicable to the powerplant, equipment, and systems;

(2) Performance specifications and limitations;

(3) Normal, abnormal, and emergency operating procedures;

(4) Flight manual; and

(5) Placards and markings; and

(B) Prior to serving as second-in-command, must have logged at least three takeoffs and landings to a full stop as the sole manipulator of the flight controls within the 180 days preceding the date of the flight.

(2) Flight review requirements of § 61.56. A person who has not completed a flight review within the previous 24 calendar months in accordance with § 61.56 may continue to act as pilot in command of an aircraft, provided the following requirements are met—

(i) Airmen requirements. The person was current to act as pilot in command of an aircraft in March 2020 and, to maintain currency, is required to complete a flight review under § 61.56 between March 1, 2020 and January 31, 2021.

(ii) Qualification requirements. To act as pilot in command of an aircraft during the period specified in paragraph 2.(b)(2)(iii)(A) or paragraph 2.(b)(2)(iii)(B) of this SFAR, the person must have—

(A) Within the 12 calendar months preceding the month in which the flight review is due, logged at least 10 hours of flight time as pilot in command in an aircraft for which that pilot is rated; and

(B) Since January 1, 2020 and preceding the date of flight, completed online Wings courses for pilots from the FAA Safety Team website, available at www.faasafety.gov. The online training courses must total at least 3 Wings credits.

(iii) Grace period. (A) A person who is required to complete a flight review under § 61.56 between March 1, 2020 and September 30, 2020 may act as pilot in command of an aircraft for a duration of three calendar months from the month in which the flight review was due. Before acting as pilot in command of an aircraft in the fourth month after the month in which the flight review was due, the person must satisfactorily complete a flight review in accordance with § 61.56.

(B) A person who is required to complete a flight review under § 61.56 between October 1, 2020 and January 31, 2021 may act as pilot in command of an aircraft for a duration of two calendar months from the month in which the flight review was due. Before acting as pilot in command of an aircraft in the third month after the month in which the flight review was due, the person must satisfactorily complete a flight review in accordance with § 61.56.

(3) Instrument experience requirements of § 61.57. A person who has not performed and logged the tasks required by § 61.57(c)(1) within the 6 calendar months preceding the month of the flight may continue to act as pilot in command under IFR or in weather conditions less than the minimums prescribed for VFR, provided the following requirements are met—

(i) Qualification requirements. The person has—

(A) Within the 6 calendar months preceding the month of the flight, performed and logged at least three instrument approaches in actual weather conditions, or under simulated conditions using a view-limiting device; and

(B) Within the 9 calendar months preceding the month of the flight, performed and logged the tasks required by § 61.57(c)(1).

(ii) Grace period. Between April 30, 2020 and September 30, 2020, a person who meets the qualification requirements of paragraph 2.(b)(3)(i) of this SFAR may act as pilot in command under IFR or in weather conditions less than the minimums prescribed for VFR.

(iii) Instrument currency after September 30, 2020. Before acting as pilot in command under IFR or in weather conditions less than the minimums prescribed for VFR after September 30, 2020, the person must comply with § 61.57(c).

(4) Pilot in command proficiency check requirements of § 61.58. (i) Airmen requirements. (A) Notwithstanding the period specified in § 61.58(i), a pilot who is required to take a pilot in command proficiency check under § 61.58(a)(1) or (2) between March 1, 2020 and September 30, 2020 for purposes of maintaining pilot in command privileges may complete the check in the month before or three months after the month in which it is required, provided the pilot meets the requirements of paragraph 2.(b)(4)(ii) of this SFAR.

(B) Notwithstanding the period specified in § 61.58(i), a pilot who is required to take a pilot in command proficiency check under § 61.58(a)(1) or (2) between October 1, 2020 and January 31, 2021 for purposes of maintaining pilot in command privileges may complete the check in the month before or two months after the month in which it is required, provided the pilot meets the requirements of paragraph 2.(b)(4)(ii) of this SFAR.

(C) A pilot who completes the proficiency check within the period prescribed by this paragraph 2.(b)(4)(i)(A) or paragraph 2.(b)(4)(i)(B) of this SFAR will be considered to have completed the check in the month in which it was required.

(ii) Qualification requirements. To complete the pilot in command proficiency check required by § 61.58(a)(1) or (2) within the period specified in paragraph 2.(b)(4)(i)(A) or paragraph 2.(b)(4)(i)(B) of this SFAR, the person—

(A) Must meet the flight experience requirements of § 61.57 that are applicable to the operation to be conducted; and

(B) Within the 3 calendar months preceding the month of the flight, must have reviewed the following information for the specific type of aircraft for which pilot in command privileges are sought—

(1) Operational procedures applicable to the powerplant, equipment, and systems;

(2) Performance specifications and limitations;

(3) Normal, abnormal, and emergency operating procedures;

(4) Flight manual; and

(5) Placards and markings.

(5) Flight Crewmember Requirements of Part 91, Subpart K, of this Chapter.

(i) Testing and checking Requirements. (A) Notwithstanding the period specified in § 91.1071(a) of this chapter, a crewmember who is required to take a test or a flight check under § 91.1065(a), § 91.1065(b), § 91.1067, § 91.1069(a), or § 91.1069(b) of this chapter between March 1, 2020 and September 30, 2020 for purposes of maintaining qualification may complete the test or check in the month before or three months after the month it is required, provided the requirements of paragraph 2.(b)(5)(vi) of this SFAR are met.

(B) Notwithstanding the period specified in § 91.1071(a) of this chapter, a crewmember who is required to take a test or a flight check under § 91.1065(a), § 91.1065(b), § 91.1067, § 91.1069(a), or § 91.1069(b) of this chapter between October 1, 2020 and January 31, 2021 for purposes of maintaining qualification may complete the test or check in the month before or two months after the month it is required, provided the requirements of paragraph 2.(b)(5)(vi) of this SFAR are met.

(C) A crewmember who completes a test or check in accordance with paragraph 2.(b)(5)(i)(A) or paragraph 2.(b)(5)(i)(B) of this SFAR will be considered to have completed the test or check in the month in which it was required.

(ii) Recurrent training requirements. (A) Notwithstanding the period specified in § 91.1073(b) of this chapter, a crewmember who is required to complete recurrent training under § 91.1099 or § 91.1107(c) of this chapter between March 1, 2020 and September 30, 2020 for purposes of maintaining qualification may complete that training in the month before or three months after the month in which it is required, provided the requirements of paragraph 2.(b)(5)(vi) of this SFAR are met.

(B) Notwithstanding the period specified in § 91.1073(b) of this chapter, a crewmember who is required to complete recurrent training under § 91.1099 or § 91.1107(c) of this chapter between October 1, 2020 and January 31, 2021 for purposes of maintaining qualification may complete that training in the month before or two months after the month in which it is required, provided the requirements of paragraph 2.(b)(5)(vi) of this SFAR are met.

(C) A crewmember who completes recurrent training in accordance with this paragraph 2.(b)(5)(ii)(A) or paragraph 2.(b)(5)(ii)(B) will be considered to have completed the training in the month in which it was required.

(iii) Instrument experience.

(A) Precision instrument approaches. A pilot who has not satisfactorily demonstrated the type of precision instrument approach procedure to be used within the previous six months in accordance with § 91.1069(c) of this chapter may continue to use that type of approach procedure, provided the following requirements are met—

(1) Airmen requirements. The person was current under § 91.1069(c) of this chapter to use that type of precision instrument approach procedure in March 2020, and is required to demonstrate that type of precision instrument approach procedure between March 1, 2020 and January 31, 2021.

(2) Grace period. (i) For a person who is required to demonstrate that type of precision instrument approach procedure between March 1, 2020 and September 30, 2020, the person satisfactorily demonstrates that type of precision instrument approach procedure within three months after the month in which it was required.

(ii) For a person who is required to demonstrate that type of precision instrument approach procedure between October 1, 2020 and January 31, 2021, the person satisfactorily demonstrates that type of precision instrument approach procedure within two months after the month in which it was required.

(3) Safety mitigations. The management specification holder satisfies paragraph 2.(b)(5)(vi) of this SFAR.

(B) Non-precision instrument approaches. A pilot who has not satisfactorily demonstrated either the type of non-precision instrument approach procedure to be used, or any other two different types of non-precision approach procedures, within the previous six months in accordance with § 91.1069(c) of this chapter may continue to use that type of non-precision instrument approach procedure, provided the following requirements are met—

(1) Airmen requirements. The person was current under § 91.1069(c) of this chapter to use that type of non-precision instrument approach procedure in March 2020, and is required to demonstrate that type of non-precision instrument approach procedure, or any other two different types of non-precision instrument approach procedures, between March 1, 2020 and January 31, 2021.

(2) Grace period. (i) For a person who is required to demonstrate that type of non-precision instrument approach procedure between March 1, 2020 and September 30, 2020, the person satisfactorily demonstrates that type of non-precision instrument approach procedure within three months after the month in which it was required.

(ii) For a person who is required to demonstrate that type of non-precision instrument approach procedure between October 1, 2020 and January 31, 2021, the person satisfactorily demonstrates that type of non-precision instrument approach procedure within two months after the month in which it was required.

(3) Safety mitigations. The management specification holder satisfies paragraph 2.(b)(5)(vi) of this SFAR.

(iv) Check pilot (simulator) and flight instructor (simulator) requirements. (A) Notwithstanding the period specified in §§ 91.1089(g) and 91.1091(g) of this chapter, a check pilot (simulator) or flight instructor (simulator) who is required to complete the flight segments or line-observation program under § 91.1089(f) or § 91.1091(f) of this chapter between March 1, 2020 and September 30, 2020 for purposes of maintaining qualification may complete the flight segments or line-observation program requirements in the month before or three months after the month they are required, provided the requirements of paragraph 2.(b)(5)(vi) of this SFAR are met.

(B) Notwithstanding the period specified in §§ 91.1089(g) and 91.1091(g) of this chapter, a check pilot (simulator) or flight instructor (simulator) who is required to complete the flight segments or line-observation program under § 91.1089(f) or § 91.1091(f) of this chapter between October 1, 2020 and January 31, 2021 for purposes of maintaining qualification may complete the flight segments or line-observation program requirements in the month before or two months after the month they are required, provided the requirements of paragraph 2.(b)(5)(vi) of this SFAR are met.

(C) A check pilot (simulator) or flight instructor (simulator) who completes the flight segments or line-observation program requirements in accordance with this paragraph 2.(b)(5)(iv) will be considered to have completed the requirements in the month in which they were due.

(v) Check pilot and flight instructor observation check requirements. (A) Notwithstanding the period specified in §§ 91.1093(b) and 91.1095(b) of this chapter, a check pilot or flight instructor who is required to complete an observation check under § 91.1093(a)(2) or § 91.1095(a)(2) of this chapter between March 1, 2020 and September 30, 2020 for purposes of maintaining qualification may complete the observation check in the month before or three months after the month it is required, provided the requirements of paragraph 2.(b)(5)(vi) of this SFAR are met.

(B) Notwithstanding the period specified in §§ 91.1093(b) and 91.1095(b) of this chapter, a check pilot or flight instructor who is required to complete an observation check under § 91.1093(a)(2) or § 91.1095(a)(2) of this chapter between October 1, 2020 and January 31, 2021 for purposes of maintaining qualification may complete the observation check in the month before or two months after the month it is required, provided the requirements of paragraph 2.(b)(5)(vi) of this SFAR are met.

(C) A check pilot or flight instructor who completes an observation check in accordance with this paragraph 2.(b)(5)(v) will be considered to have completed the check in the month it which it was due.

(vi) Safety mitigations. The management specification holder must provide an acceptable plan to the responsible Flight Standards office that contains the following information—

(A) A safety analysis and corresponding risk mitigations to be implemented by the management specification holder; and

(B) The method the management specification holder will use to ensure that each crewmember complying with paragraph 2.(b)(5) of this SFAR remains adequately tested and currently proficient for each aircraft, duty position, and type of operation in which the person serves.

(6) Mitsubishi MU-2B Series Special Training, Experience, and Operating Requirements of Part 91, Subpart N, of this Chapter.

(i) Recurrent training. (A) Notwithstanding the period specified in § 91.1705(e) of this chapter, a person who is required to complete recurrent training under § 91.1703(e) of this chapter between March 1, 2020 and September 30, 2020 for purposes of complying with § 91.1705(a) and (b) may complete the recurrent training in the month before or three months after the month the recurrent training is required, provided the requirements of paragraph 2.(b)(6)(iii) of this SFAR are met.

(B) Notwithstanding the period specified in § 91.1705(e) of this chapter, a person who is required to complete recurrent training under § 91.1703(e) of this chapter between October 1, 2020 and January 31, 2021 for purposes of complying with § 91.1705(a) and (b) may complete the recurrent training in the month before or two months after the month the recurrent training is required, provided the requirements of paragraph 2.(b)(6)(iii) of this SFAR are met.

(C) A person who completes the recurrent training in accordance with this paragraph 2.(b)(6)(i) will be considered to have completed the training in the month it was required.

(ii) Flight review. A person who has not completed a flight review in accordance with §§ 61.56 and 91.1715(c) of this chapter in a Mitsubishi MU-2B series airplane or an MU-2B Simulator approved for landings with an approved course conducted under part 142 of this chapter may continue to act as pilot in command of a Mitsubishi MU-2B series airplane, providing the following requirements are met—

(A) Airmen requirements. The person was—

(1) Current to act as pilot in command of a Mitsubishi MU-2B series airplane in March 2020 and, to maintain currency, is required to complete a flight review in a Mitsubishi MU-2B series airplane between March 1, 2020 and January 31, 2021; and

(2) The requirements of paragraph 2.(b)(6)(iii) of this SFAR are met.

(B) Grace period. (1) A person who is required to complete a flight review in a Mitsubishi MU-2B series airplane between March 1, 2020 and September 30, 2020 may act as pilot in command of a Mitsubishi MU-2B series airplane for a duration for three calendar months from the month in which the flight review was due. Before acting as pilot in command of an aircraft in the fourth month after the month in which the flight review was due, the person must satisfactorily complete a flight review in accordance with §§ 61.56 and 91.1715(c) of this chapter in a Mitsubishi MU-2B series airplane or an MU-2B Simulator approved for landings with an approved course conducted under part 142 of this chapter.

(2) A person who is required to complete a flight review in a Mitsubishi MU-2B series airplane between October 1, 2020 and January 31, 2021 may act as pilot in command of a Mitsubishi MU-2B series airplane for a duration for two calendar months from the month in which the flight review was due. Before acting as pilot in command of an aircraft in the third month after the month in which the flight review was due, the person must satisfactorily complete a flight review in accordance with §§ 61.56 and 91.1715(c) of this chapter in a Mitsubishi MU-2B series airplane or an MU-2B Simulator approved for landings with an approved course conducted under part 142 of this chapter.

(iii) Qualification requirements. To complete the recurrent training during the period provided under paragraph 2.(b)(6)(i)(A) or paragraph 2.(b)(6)(i)(B) of this SFAR or to complete the flight review during the period provided under paragraph 2.(b)(6)(ii)(A) or paragraph 2.(b)(6)(ii)(B) of this SFAR, the person must—

(A) Within the 12 calendar months preceding the month the recurrent training or flight review is due, logged at least 10 hours of flight time in an MU-2B series airplane that includes at least 3 hours of flight time in the 3 calendar months preceding the month in which the recurrent training or flight review is due;

(B) Since January 1, 2020, completed online Wings courses for pilots from FAA Safety Team website, available at www.faasafety.gov. The online training courses must total at least 3 Wings credits; and

(C) Prior to manipulating the controls of an MU-2B series airplane, completed three hours of self-study, since January 1, 2020 and preceding the date of the flight, on the following subjects—

(1) The ground training curriculum required by § 91.1705(h)(1) of this chapter;

(2) The Special Emphasis Items listed in the approved MU-2B training program that the pilot last completed;

(3) The limitations, procedures, aircraft performance, and MU-2B Cockpit Checklist procedures applicable to the MU-2B model to be flown, which are contained in the flight training curriculum required by § 91.1705(h)(2) of this chapter; and

(4) The current general operating and flight rules of part 91 of this chapter.

(7) Aeronautical Knowledge Recency Requirements of § 107.65 of this Chapter. A person who has not satisfied the aeronautical knowledge recency requirements of § 107.65(a) or (b) of this chapter within the previous 24 calendar months may operate a small unmanned aircraft system under part 107 of this chapter, provided that person meets the following requirements—

(i) Airmen requirements. The person was current to exercise the privileges of a remote pilot certificate in March 2020 and, to maintain aeronautical currency, is required to meet the aeronautical recency requirements in § 107.65(a) or (b) of this chapter between April 1, 2020 and September 30, 2020.

(ii) Qualification requirements. The person must have completed an FAA-developed initial or recurrent online training course, available at www.faasafety.gov, covering the areas of knowledge specified in § 107.74(a) or (b) of this chapter. Each person is eligible to take an online training course specified in this paragraph 2.(b)(7)(ii) one time for the purpose of obtaining the six calendar month period specified in paragraph 2.(b)(7)(iii) of this SFAR;

(iii) Grace period. The person may operate a small unmanned aircraft system under part 107 of this chapter for a duration of six calendar months from the month in which the person completed the online training course specified in paragraph 2.(b)(7)(ii) of this SFAR. Before operating a small unmanned aircraft system under part 107 in the seventh month after the month in which the person completed the online training course, the person must satisfy § 107.65 of this chapter.

(8) Flight Crewmember Requirements of Part 125 of this Chapter.

(i) Recent experience requirements. A person who has not satisfied the recent experience requirements of § 125.285(a) of this chapter may be used by a certificate holder (or holder of an A125 letter of deviation authority), and may serve as a required pilot flight crewmember, in operations conducted under part 125 of this chapter, provided the following requirements are met—

(A) Grace period. (1) For flights between March 1, 2020 and September 30, 2020, the person has made at least three takeoffs and landings, within the preceding 150 days, in the type of airplane in which that person is to serve.

(2) For flights between October 1, 2020 and January 31, 2021, the person has made at least three takeoffs and landings, within the preceding 120 days, in the type of airplane in which that person is to serve.

(B) Safety Mitigations. The certificate holder complies with paragraph 2.(b)(8)(iii) of this SFAR.

(ii) Testing and checking requirements. (A) Notwithstanding the period specified in § 125.293(a) of this chapter, a crewmember who is required to take a test or check under § 125.287(a), § 125.287(b), § 125.289, or § 125.291(a) of this chapter between March 1, 2020 and September 30, 2020 for purposes of maintaining qualifications may complete the test or check in the month before or three months after the month it is required, provided the requirements of paragraph 2.(b)(8)(iii) of this SFAR are met.

(B) Notwithstanding the period specified in § 125.293(a) of this chapter, a crewmember who is required to take a test or check under § 125.287(a), § 125.287(b), § 125.289, or § 125.291(a) of this chapter between October 1, 2020 and January 31, 2021 for purposes of maintaining qualifications may complete the test or check in the month before or two months after the month it is required, provided the requirements of paragraph 2.(b)(8)(iii) of this SFAR are met.

(C) A crewmember who completes the test or check in accordance with this paragraph 2.(b)(8)(ii) will be considered to have completed the test or check in the month in which it was required.

(iii) Safety mitigations. The certificate holder (or holder of an A125 letter of deviation authority) must provide an acceptable plan to its assigned principal operations inspector that contains the following information—

(A) A safety analysis and corresponding risk mitigations to be implemented by the certificate holder (or holder of an A125 letter of deviation authority); and

(B) The method the certificate holder (or holder of an A125 letter of deviation authority) will use to ensure that each crewmember complying with paragraph 2.(b)(8) of this SFAR remains adequately tested and currently proficient for each aircraft, duty position, and type of operation in which the person serves.

(9) Robinson R-22/R-44 Special Training and Experience Requirements of SFAR No. 73 of this Part. A person who has not completed a flight review in a Robinson model R-22 or R-44 helicopter, as appropriate, within the preceding 24 calendar months in accordance with paragraph 2(c) of SFAR No. 73 and § 61.56, may continue to act as pilot in command of a Robinson model R-22 or R-44 helicopter, as appropriate, providing the following requirements are met—

(i) Airmen requirements. The person was current to act as pilot in command of a Robinson model R-22 or R-44 helicopter, as appropriate, in March 2020 and, to maintain currency, is required to complete a flight review in a Robinson model R-22 or R-44 helicopter, as appropriate, between March 1, 2020 and January 31, 2021.

(ii) Qualification requirements. The person must—

(A) Satisfy the qualification requirements specified in paragraph 2.(b)(2)(ii) of this SFAR, except

(1) The 10 hours of flight time as pilot in command must be obtained in a Robinson model R-22 or R-44 helicopter, as appropriate to the privileges sought;

(2) At least 3 hours of flight time must be obtained within the 3 calendar months preceding the month in which the flight review is due; and

(3) The courses required by paragraphs 2.(b)(9)(ii)(C) and (D) of this SFAR may count towards the 3 Wings credits.

(B) Complete three hours of self-study, since January 1, 2020 and preceding the date of flight, on the following subjects—

(1) The awareness training subject areas specified in paragraphs 2.(a)(3)(i) through (v) of SFAR No. 73 of this part;

(2) The current general operating and flight rules of part 91 of this chapter;

(3) Robinson R-22 or R-44 Maneuvers Guide, as applicable to the model(s) in which the airmen holds pilot in command privileges;

(C) Complete Course ALC-103: Helicopter Weight and Balance, Performance at www.faasafety.gov; and

(D) Complete Course ALC-104: Helicopter—General and Flight Aerodynamics at www.faasafety.gov.

(iii) Grace period. (A) A person who is required to complete a flight review under § 61.56 between March 1, 2020 and September 30, 2020 may act as a pilot in command of a Robinson model R-22 or R-44 helicopter, as appropriate, for a duration of three calendar months from the month in which the flight review was due. Before acting as pilot in command of an aircraft in the fourth month after the month in which the flight review was due, the person must satisfactorily complete a flight review in a Robinson model R-22 or R-44 helicopter, as appropriate to the privileges sought, in accordance with paragraph 2(c) of SFAR No. 73 of this part and § 61.56.

(B) A person who is required to complete a flight review under § 61.56 between October 1, 2020 and January 31, 2021 may act as a pilot in command of a Robinson model R-22 or R-44 helicopter, as appropriate, for a duration of two calendar months from the month in which the flight review was due. Before acting as pilot in command of an aircraft in the third month after the month in which the flight review was due, the person must satisfactorily complete a flight review in a Robinson model R-22 or R-44 helicopter, as appropriate to the privileges sought, in accordance with paragraph 2(c) of SFAR No. 73 of this part and § 61.56.

3. Duration and renewal requirements.

(a) This Part.

(1) Extension of medical certificate duration requirements. (i) The expiration date of a first-, second-, or third-class medical certificate that expires between March 31, 2020 and January 31, 2021 is extended three calendar months from the duration established in § 61.23(d) of this part as follows:

(A) For first-, second-, and third-class medical certificates that expire between March 31, 2020 and September 30, 2020, the expiration date is extended for three calendar months;

(B) Except as provided in paragraph 3.(a)(1)(i)(C) of this SFAR, for first-, second-, and third-class medical certificates that expire between October 31, 2020 and January 31, 2021, the expiration date is extended for two calendar months; and

(C) For first-, second-, and third-class medical certificates that expire between October 31, 2020 and January 31, 2021, the expiration date is extended for three calendar months if the holder of the medical certificate resides in or serves as a pilot of an aircraft in the State of Alaska.

(ii) A certificate extended under this paragraph 3.(a)(1) is considered valid under § 61.2(a)(5).

(iii) Unless otherwise prohibited by a foreign country, a person may operate outside of the United States under this paragraph 3.(a)(1) if the person—

(A) Has access to this SFAR when outside the United States; and

(B) Presents a copy of this SFAR for inspection upon request by a foreign Civil Aviation Authority in accordance with the Convention on International Civil Aviation (Chicago Convention), and its Annexes.

(2) Extension of knowledge test duration requirements in § 61.39. An applicant for a certificate or rating issued under part 61 of this chapter may satisfy the eligibility requirement in § 61.39(a)(1) by passing the required knowledge test:

(i) Within the 27-calendar month period preceding the month the applicant completes the practical test, if a knowledge test is required, provided the knowledge test was passed between March 1, 2018 and September 30, 2018;

(ii) Within the 63-calendar month period preceding the month the applicant completes the practical test for those applicants who complete the airline transport pilot certification training program in § 61.156 and pass the knowledge test for an airline transport pilot certificate with a multiengine class rating, provided the knowledge test was passed between March 1, 2015 and September 30, 2015;

(iii) Within the 26-calendar month period preceding the month the applicant completes the practical test, if a knowledge test is required, provided the knowledge test was passed between October 1, 2018 and January 31, 2019; or

(iv) Within the 62-calendar month period preceding the month the applicant completes the practical test for those applicants who complete the airline transport pilot certification training program in § 61.156 and pass the knowledge test for an airline transport pilot certificate with a multiengine class rating, provided the knowledge test was passed between October 1, 2015 and January 31, 2016.

(3) Extension of renewal requirements for flight instructor certification. The holder of a flight instructor certificate that expires between March 31, 2020 and May 31, 2020 may renew his or her flight instructor certificate by submitting a completed and signed application to the FAA and satisfactorily completing one of the renewal requirements specified in § 61.197(a)(2)(i) through (iv) before June 30, 2020.

(b) Part 63 of this Chapter.

(1) Extension of medical certificate duration requirements. (i) For a person acting as a flight engineer of an aircraft, the expiration date of a second-class (or higher) medical certificate that expires between March 31, 2020 and September 30, 2020 is extended 3 calendar months from the original expiration date.

(ii) Except as provided in paragraph 3.(b)(1)(iii) of this SFAR, for a person acting as a flight engineer of an aircraft, the expiration date of a second-class (or higher) medical certificate that expires between October 31, 2020 and January 31, 2021 is extended 2 calendar months from the original expiration date.

(iii) For a person acting as a flight engineer of an aircraft, the expiration date of a second-class (or higher) medical certificate that expires between October 31, 2020 and January 31, 2021 is extended 3 calendar months from the original expiration date if the flight engineer resides in or serves as a flight engineer in an aircraft in the State of Alaska.

(iv) Unless otherwise prohibited by a foreign country, a person may operate outside of the United States under this paragraph 3.(b)(1) if the person:

(A) Has access to this SFAR when outside the United States; and

(B) Presents a copy of this SFAR for inspection upon request by a foreign Civil Aviation Authority in accordance with the Convention on International Civil Aviation (Chicago Convention), and its Annexes.

(2) Extension of written test duration requirements in § 63.35 of this chapter. (i) An applicant for a flight engineer certificate or rating may satisfy the knowledge requirement in § 63.35(d) of this chapter by passing the required written test within the 27-calendar month period preceding the month the applicant completes the practical test, provided the written test was passed between March 1, 2018 and September 30, 2018.

(ii) An applicant for a flight engineer certificate or rating may satisfy the knowledge requirement in § 63.35(d) of this chapter by passing the required written test within the 26-calendar month period preceding the month the applicant completes the practical test, provided the written test was passed between October 1, 2018 and January 31, 2019.

(c) Part 65 of this Chapter.

(1) Extension of knowledge test duration requirements in § 65.55 of this chapter. (i) An applicant for an aircraft dispatcher certificate may satisfy the knowledge requirement in § 65.55(b) of this chapter by presenting satisfactory evidence that the applicant passed the knowledge test within the 27-calendar month period preceding the month the applicant completes the practical test, provided the knowledge test was passed between March 1, 2018 and September 30, 2018.

(ii) An applicant for an aircraft dispatcher certificate may satisfy the knowledge requirement in § 65.55(b) of this chapter by presenting satisfactory evidence that the applicant passed the knowledge test within the 26-calendar month period preceding the month the applicant completes the practical test, provided the knowledge test was passed between October 1, 2018 and January 31, 2019.

(2) Extension of testing period in § 65.71 of this chapter. (i) A person may show eligibility for a mechanic certificate or rating under § 65.71 of this chapter by passing all the prescribed tests of part 65, subpart D, of this chapter within a period of 27 months, provided the testing period began between March 1, 2018 and September 30, 2018.

(ii) A person may show eligibility for a mechanic certificate or rating under § 65.71 of this chapter by passing all the prescribed tests of part 65, subpart D, of this chapter within a period of 26 months, provided the testing period began between October 1, 2018 and January 31, 2019.

(3) Renewal of inspection authorizations in § 65.93 of this chapter.

(i) Grace period for meeting renewal requirements. Notwithstanding the requirement in § 65.93(c) of this chapter, an inspection authorization holder who did not complete one of the activities in § 65.93(a)(1) through (5) of this chapter by March 31, 2020 of the first year may still be eligible for renewal of an inspection authorization for a 2-year period in March 2021. To be eligible for renewal, the inspection authorization holder must show completion of one of the five activities in § 65.93(a)(1) through (5) of this chapter by June 30, 2020, and completion of the one of the five activities in § 65.93(a)(1) through (5) of this chapter during the second year of the 2-year period. A person who completes one of the five activities by June 30, 2020 will be considered to have completed the activity by March 31, 2020 of the first year for purposes of determining eligibility under § 65.93 of this chapter.

(ii) Inspection authorization privileges after June 2020. If the inspection authorization holder does not complete one of the five activities in § 65.93(a)(1) through (5) of this chapter by June 30, 2020, the inspection authorization holder may not exercise inspection authorization privileges after June 30, 2020. The inspection authorization holder may resume exercising inspection authorization privileges only after passing an oral test from an FAA inspector in accordance with § 65.93(c) of this chapter.

(4) Military riggers or former military riggers: Special certification rule of § 65.117 of this chapter. A person may satisfy the requirements of § 65.117(a) and (b) of this chapter for a senior parachute rigger certificate by presenting satisfactory documentary evidence that the person was honorably discharged or released from any status covered by § 65.117(a) of this chapter between March 2019 and June 2019, and has served as a parachute rigger for an Armed Force within the 15 months before the date of application.

(d) Relief for U.S. Military and Civilian Personnel Who are Assigned Outside the United States in Support of U.S. Armed Forces Operations. Notwithstanding the six calendar month period specified in paragraph 2 of SFAR No. 100-2 of this part, a person may exercise the relief specified in paragraph 1 of SFAR No. 100-2 for a duration of nine calendar months after returning to the United States, provided the person—

(i) Is eligible in accordance with paragraph 2 of SFAR No. 100-2 of this part;

(ii) Complies with the documentation requirements specified in paragraph 3 of SFAR No. 100-2 of this part; and

(iii) Returned to the United States from deployment between October 2019 and March 2020.

(e) Part 141 of this Chapter.

(1) Pilot school certificate requirements of § 141.5 of this chapter.

(i) Provisional pilot school. Notwithstanding the period specified in § 141.5 of this chapter, a provisional pilot school may apply for, and the FAA may issue, a pilot school certificate with the appropriate ratings if the following requirements are met—

(A) The provisional pilot school must satisfy the requirements of § 141.5(a) through (e) of this chapter before December 31, 2020;

(B) The provisional pilot school certificate must expire between April 2020 and June 2020; and

(C) The provisional pilot school meets the requirements of paragraph 3.(e)(1)(ii) of this SFAR.

(ii) Safety mitigations.

(A) The provisional pilot school must notify its responsible Flight Standards office that it is applying for a pilot school certificate in accordance with this SFAR.

(B) Each provisional pilot school must include in its notification an acceptable plan that explains the method to meet the requirements of § 141.5(d) and (e) of this chapter, including—

(1) Ensuring each instructor used for ground or flight training is current and proficient; and

(2) Evaluating students to determine if they are assigned to the proper stage of the training course and if additional training is necessary.

(2) Renewal of certificates and ratings in § 141.27 of this Chapter.

(i) Pilot school. A pilot school may apply for renewal of its pilot school certificate and ratings after the expiration of its pilot schools certificate, provided the school applies for renewal before December 31, 2020 and the following requirements are met—

(A) The pilot school must meet § 141.27(a)(2) of this chapter before December 31, 2020;

(B) The pilot school certificate must expire between April 2020 and June 2020; and

(C) The pilot school meets the requirements of paragraph 3.(e)(2)(ii) of this SFAR.

(ii) Safety mitigations.

(A) Each pilot school must submit to the responsible Flight Standards office notification that it will renew its pilot school certificate in accordance with this SFAR.

(B) Each pilot school must include in its notification an acceptable plan that explains the method to regain currency, including—

(1) Ensuring each instructor used for ground or flight training is current and proficient; and

(2) Evaluating students to determine if they are assigned to the proper stage of the training course and if additional training is necessary.

4. Other relief for special flight permits issued under § 21.197(c) of this chapter. In addition to the purposes specified in § 21.197(c) of this chapter, notwithstanding §§ 119.5(l) and 91.1015(a) of this chapter, a special flight permit with a continuing authorization may be issued under § 21.197(c) of this chapter through March 31, 2021, for aircraft that may not meet applicable airworthiness requirements, but are capable of safe flight for the purpose of flying the aircraft to a point of storage, provided the following requirements are met—

(a) The air carrier or operator must hold a special flight permit with continuing authorization to conduct a ferry flight program issued under § 21.197(c) of this chapter; and

(b) The certificate holder or management specification holder must notify the responsible Flight Standards office each time the special flight permit is used for the purpose of flying the aircraft to a point of storage.

5. Expiration date. This SFAR is effective until April 30, 2021. The FAA may amend, rescind, or extend the SFAR as necessary.

6. Office of Management and Budget (OMB) control number. The Paperwork Reduction Act of 1995 (44 U.S.C. 3501-3520) requires the FAA to get approval from OMB for our information collection activities. The OMB control number assigned to the FAA's information collection associated with this SFAR is 2120-0788.

PART 63—CERTIFICATION: FLIGHT CREWMEMBERS OTHER THAN PILOTS

5. The authority citation for part 63 continues to read as follows:

Authority: 49 U.S.C. 106(f), 106(g), 40113, 44701-44703, 44707, 44709-44711, 45102-45103, 45301-45302.

6. Remove Special Federal Aviation Regulation (SFAR) No. 118-1 from part 63 and add, in its place, SFAR No. 118-2 to part 63 to read as follows:

Special Federal Aviation Regulation No. 118-2—Relief for Certain Persons During the National Emergency Concerning the Novel Coronavirus Disease (COVID-19) Public Health Emergency

For the text of SFAR No. 118-2, see part 61 of this chapter.

PART 65—CERTIFICATION: FLIGHT CREWMEMBERS OTHER THAN PILOTS

7. The authority citation for part 65 continues to read as follows:

Authority: 49 U.S.C. 106(f), 106(g), 40113, 44701-44703, 44707, 44709-44711, 45102-45103, 45301-45302.

8. Remove Special Federal Aviation Regulation (SFAR) No. 118-1 from part 65 and add, in its place, SFAR No. 118-2 to part 65 to read as follows:

Special Federal Aviation Regulation No. 118-2—Relief for Certain Persons During the National Emergency Concerning the Novel Coronavirus Disease (COVID-19) Public Health Emergency

For the text of SFAR No. 118-2, see part 61 of this chapter.

PART 91—GENERAL OPERATING AND FLIGHT RULES

9. The authority citation for part 91 continues to read as follows:

Authority: 49 U.S.C. 106(f), 106(g), 40101, 40103, 40105, 40113, 40120, 44101, 44111, 44701, 44704, 44709, 44711, 44712, 44715, 44716, 44717, 44722, 46306, 46315, 46316, 46504, 46506-46507, 47122, 47508, 47528-47531, 47534, Pub. L. 114-190, 130 Stat. 615 (49 U.S.C. 44703 note); articles 12 and 29 of the Convention on International Civil Aviation (61 Stat. 1180), (126 Stat. 11).

10. Remove Special Federal Aviation Regulation (SFAR) No. 118-1 from part 91 and add, in its place, SFAR No. 118-2 to part 91 to read as follows:

Special Federal Aviation Regulation No. 118-2—Relief for Certain Persons During the National Emergency Concerning the Novel Coronavirus Disease (COVID-19) Public Health Emergency

For the text of SFAR No. 118-2, see part 61 of this chapter.

PART 107—SMALL UNMANNED AIRCRAFT SYSTEMS

11. The authority citation for part 107 continues to read as follows:

Authority: 49 U.S.C. 106(f), 40101 note, 40103(b), 44701(a)(5); Sec. 333 of Pub. L. 112-95, 126 Stat. 75.

12. Remove Special Federal Aviation Regulation (SFAR) No. 118-1 from part 107 and add, in its place, SFAR No. 118-2 to part 107 to read as follows:

Special Federal Aviation Regulation No. 118-2—Relief for Certain Persons During the National Emergency Concerning the Novel Coronavirus Disease (COVID-19) Public Health Emergency

For the text of SFAR No. 118-2, see part 61 of this chapter.

PART 125—CERTIFICATION AND OPERATIONS: AIRPLANES HAVING A SEATING CAPACITY OF 20 OR MORE PASSENGERS OR A MAXIMUM PAYLOAD CAPACITY OF 6,000 POUNDS OR MORE; AND RULES GOVERNING PERSONS ON BOARD SUCH AIRCRAFT

13. The authority citation for part 125 continues to read as follows:

Authority: 49 U.S.C. 106(f), 106(g), 40113, 44701-44702, 44705, 44710-44711, 44713, 44716-44717, 44722.

14. Remove Special Federal Aviation Regulation (SFAR) No. 118-1 from part 125 and add, in its place, SFAR No. 118-2 to part 125 to read as follows:

Special Federal Aviation Regulation No. 118-2—Relief for Certain Persons During the National Emergency Concerning the Novel Coronavirus Disease (COVID-19) Public Health Emergency

For the text of SFAR No. 118-2, see part 61 of this chapter.

PART 141—PILOT SCHOOLS

15. The authority citation for part 141 continues to read as follows:

Authority: 49 U.S.C. 106(f), 106(g), 40113, 44701-44703, 44707, 44709, 44711, 45102-45103, 45301-45302.

16. Remove Special Federal Aviation Regulation (SFAR) No. 118-1 from part 141 and add, in its place, SFAR No. 118-2 to part 141 to read as follows:

Special Federal Aviation Regulation No. 118-2—Relief for Certain Persons During the National Emergency Concerning the Novel Coronavirus Disease (COVID-19) Public Health Emergency

For the text of SFAR No. 118-2, see part 61 of this chapter.

Issued under authority provided by 49 U.S.C. 106(f), 44701(a), and 44703 in Washington, DC.
Steve Dickson,
Administrator, Federal Aviation Administration.

[FR Doc. 2020-22004 Filed 10-1-20; 4:15 pm]

BILLING CODE 4910-13-P